DEPARTMENT OF HOUSING AND URBAN DEVELOPMENT

[Docket No. FR-4901-N-08]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Mark Johnston, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Heather Ransom, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this notice (i.e., acreage, floor plan, existing sanitary facilities, exact street address), providers should contact the appropriate landholding agencies at the following addresses: ARMY: Ms. Julie Jones-Conte, Department of the Army, Office of the Assistant Chief of Staff for Installation Management, Attn: DAIM-ME, Room 1E677, 600 Army Pentagon, Washington, DC 20310-0600; (703) 692-9223; (These are not toll-free numbers).

Dated: February 12, 2004.
John D. Garrity,
Director, Office of Special Needs Assistance Programs.

Title V, Federal Surplus Property Program Federal Register Report for 2/20/04

Suitable/Available Properties

Buildings (by State)

Alabama

Bldg. 02915

Fort Rucker

Ft. Rucker Co: Dale AL 36362-

Landholding Agency: Army

Property Number: 21200310050

Status: Excess

Comment: 1224 sq. ft., most recent use—bath house, off-site use only

Alaska

Bldgs. 09100, 09104-09106

Fort Richardson

Ft. Richardson Co: AK 99505-6500

Landholding Agency: Army

Property Number: 21200020158

Status: Unutilized

Comment: various sq. ft., concrete, most recent use—hazard bldg., off-site use only

5 Bldgs. 09108, 09110-09112, 09114

Fort Richardson

Ft. Richardson Co: AK 99505-6500

Landholding Agency: Army

Property Number: 21200020159

Status: Unutilized

Comment: various sq. ft., concrete, most recent use—hazard bldg., off-site use only

Bldgs. 09128, 09129

Fort Richardson

Ft. Richardson Co: AK 99505-6500

Landholding Agency: Army

Property Number: 21200020160

Status: Unutilized

Comment: various sq. ft., concrete, most recent use—hazard bldg., off-site use only

Bldgs. 09151, 09155, 09156

Fort Richardson

Ft. Richardson Co: AK 99505-6500

Landholding Agency: Army

Property Number: 21200020161

Status: Unutilized

Comment: various sq. ft., concrete, most recent use—hazard bldg., off-site use only

Bldg. 09158

Fort Richardson

Ft. Richardson Co: AK 99505-6500

Landholding Agency: Army

Property Number: 21200020162

Status: Unutilized

Comment: 672 sq. ft., most recent use—storage shed, off-site use only

Bldgs. 09160-09162

Fort Richardson

Ft. Richardson Co: AK 99505-6500

Landholding Agency: Army

Property Number: 21200020163

Status: Unutilized

Comment: 11520 sq. ft., concrete, most recent use—NCO-ENL FH, off-site use only

Bldgs. 09164, 09165

Fort Richardson

Ft. Richardson Co: AK 99505-6500

Landholding Agency: Army

Property Number: 21200020164

Status: Unutilized

Comment: 2304 & 2880 sq. ft., most recent use—storage, off-site use only

Bldg. 10100

Fort Richardson

Ft. Richardson Co: AK 99505-6500

Landholding Agency: Army

Property Number: 21200020165

Status: Unutilized

Comment: 4688 sq. ft., concrete, most recent use—hazard bldg., off-site use only

Bldg. 00390

Fort Richardson

Ft. Richardson Co: AK 99505-

Landholding Agency: Army

Property Number: 21200030067

Status: Excess

Comment: 13,632 sq. ft., off-site use only

Bldgs. 01200, 01202

Fort Richardson

Ft. Richardson Co: AK 99505-

Landholding Agency: Army

Property Number: 21200030068

Status: Excess

Comment: 4508 & 6366 sq. ft., most recent use—hazard bldg., off-site use only

Bldgs. 01205-01207

Fort Richardson

Ft. Richardson Co: AK 99505-

Landholding Agency: Army

Property Number: 21200030070

Status: Excess

Comment: various sq. ft., most recent use—hazard bldg., off-site use only

Bldgs. 01208, 01210, 01212

Fort Richardson

Ft. Richardson Co: AK 99505-

Landholding Agency: Army

Property Number: 21200030071

Status: Excess

Comment: various sq ft., most recent use—hazard bldg., off-site use only

Bldgs. 01213, 01214

Fort Richardson

Ft. Richardson Co: AK 99505-

Landholding Agency: Army

Property Number: 21200030072

Status: Excess

Comment: 11964 & 13740 sq. ft., most recent use—transient UPH, off-site use only

Bldgs. 01218, 01230

Fort Richardson

Ft. Richardson Co: AK 99505-

Landholding Agency: Army

Property Number: 21200030073

Status: Excess

Comment: 480 & 188 sq. ft., most recent use—hazard bldgs., off-site use only

Bldgs. 01231, 01232

Fort Richardson

Ft. Richardson Co: AK 99505-

Landholding Agency: Army

Property Number: 21200030074

Status: Excess

Comment: 458 & 4260 sq. ft., most recent use—hazard bldgs., off-site use only

Bldg. 01234

Fort Richardson

Ft. Richardson Co: AK 99505-

Landholding Agency: Army

Property Number: 21200030075

Status: Excess

Comment: 615 sq. ft., most recent use—admin., off-site use only

Bldg. 01237

Fort Richardson

Ft. Richardson Co: AK 99505-

Landholding Agency: Army

Property Number: 21200030076

Status: Excess

Comment: 408 sq. ft., most recent use—fuel/pol bldg., off-site use only

Bldg. 01272

Fort Richardson

Ft. Richardson Co: AK 99505-

Landholding Agency: Army

Property Number: 21200030077

Status: Excess

Comment: 308 sq. ft., most recent use—storage, off-site use only

Bldg. 08109

Fort Richardson

Ft. Richardson Co: AK 99505-

Landholding Agency: Army

Property Number: 21200030080

Status: Excess

Comment: 1920 sq. ft., most recent use—storage, off-site use only

Armory

NG Noorvik

Noorvik Co: AK 99763-

Landholding Agency: Army

Property Number: 21200110075

Status: Unutilized

Comment: 1200 sq. ft., most recent use—armory, off-site use only

Bldg. 00229

Fort Richardson

Ft. Richardson Co: AK 99505-6500

Landholding Agency: Army

Property Number: 21200120085

Status: Excess

Comment: 13,056 sq. ft., off-site use only

Bldg. 00001

Kiana Natl Guard Armory

Kiana Co: AK 99749-

Landholding Agency: Army

Property Number: 21200340075

Status: Excess

Comment: 1200 sq. ft., butler bldg., needs repair, off-site use only

Arizona

Bldg. 30012, Fort Huachuca

Sierra Vista Co: Cochise AZ 85635-

Landholding Agency: Army

Property Number: 21199310298

Status: Excess

Comment: 237 sq. ft., 1-story block, most recent use—storage

Bldg. S-306

Yuma Proving Ground

Yuma Co: Yuma/La Paz AZ 85365-9104

Landholding Agency: Army

Property Number: 21199420346

Status: Unutilized

Comment: 4103 sq. ft., 2-story, needs major rehab, off-site use only

Bldg. 503, Yuma Proving Ground

Yuma Co: Yuma AZ 85365-9104

Landholding Agency: Army

Property Number: 21199520073

Status: Underutilized

Comment: 3789 sq. ft., 2-story, major structural changes required to meet floor loading & fire code requirements, presence of asbestos, off-site use only

Bldg. 00500

Yuma Proving Ground

Yuma Co: AZ 85365-9498

Landholding Agency: Army

Property Number: 21200340076

Status: Unutilized

Comment: 4171 sq. ft., needs rehab, possible asbestos/lead paint, most recent use—training, off-site use only

California

Bldgs. 204-207, 517

Presidio of Monterey

Monterey Co: CA 93944-5006

Landholding Agency: Army

Property Number: 21200020167

Status: Unutilized

Comment: 4780 & 10950 sq. ft., presence of asbestos/lead paint, most recent use—classroom/admin/storage, off-site use only

Bldgs. 18026, 18028

Camp Roberts

Monterey Co: CA 93451-5000

Landholding Agency: Army

Property Number: 21200130081

Status: Excess

Comment: 2024 sq. ft. & 487 sq. ft., concrete, poor condition, off-site use only

Colorado

Bldg. F-107

Fort Carson

Ft. Carson Co: El Paso CO 80913-

Landholding Agency: Army

Property Number: 21200130082

Status: Unutilized

Comment: 10,126 sq. ft., poor condition, possible asbestos/lead paint, most recent use—storage, off-site use only

Bldg. T-108

Fort Carson

Ft. Carson Co: El Paso CO 80913-

Landholding Agency: Army

Property Number: 21200130083

Status: Unutilized

Comment: 9000 sq. ft., poor condition, possible asbestos/lead paint, most recent use—storage, off-site use only

Bldg. T-209

Fort Carson

Ft. Carson Co: El Paso CO 80913-

Landholding Agency: Army

Property Number: 21200130084

Status: Unutilized

Comment: 400 sq. ft., poor condition, possible asbestos/lead paint, most recent use—maint. shop, off-site use only

Bldg. T-217

Fort Carson

Ft. Carson Co: El Paso CO 80913-

Landholding Agency: Army

Property Number: 21200130085

Status: Unutilized

Comment: 9000 sq. ft., poor condition, possible asbestos/lead paint, most recent use—maint., off-site use only

Bldg. T-218

Fort Carson

Ft. Carson Co: El Paso CO 80913-

Landholding Agency: Army

Property Number: 21200130086

Status: Unutilized

Comment: 9000 sq. ft., poor condition, possible asbestos/lead paint, most recent use—maint., off-site use only

Bldg. T-220

Fort Carson

Ft. Carson Co: El Paso CO 80913-

Landholding Agency: Army

Property Number: 21200130087

Status: Unutilized

Comment: 690 sq. ft., poor condition, possible asbestos/lead paint, most recent use—heat plant, off-site use only

Bldg. T-6001

Fort Carson

Ft. Carson Co: El Paso CO 80913-

Landholding Agency: Army

Property Number: 21200130088

Status: Unutilized

Comment: 4372 sq. ft., poor condition, possible asbestos/lead paint, most recent use—vet clinic, off-site use only

Bldg. S6263

Fort Carson

Ft. Carson Co: El Paso CO 80913-

Landholding Agency: Army

Property Number: 21200310051

Status: Unutilized

Comment: 24,902 sq. ft., needs repair, presence of asbestos/lead paint, most recent use—offices, off-site use only

Bldg. S6265

Fort Carson

Ft. Carson Co: El Paso CO 80913-

Landholding Agency: Army

Property Number: 21200310052

Status: Unutilized

Comment: 19,499 sq. ft., needs repair, presence of asbestos/lead paint, most recent use—child development center, off-site use only

Bldg. S6266

Fort Carson

Ft. Carson Co: El Paso CO 80913-

Landholding Agency: Army

Property Number: 21200310053

Status: Unutilized

Comment: 27,286 sq. ft., needs repair, presence of asbestos/lead paint, most recent use—office, off-site use only

Bldg. S6267

Fort Carson

Ft. Carson Co: El Paso CO 80913-

Landholding Agency: Army

Property Number: 21200310054

Status: Unutilized

Comment: 20,075 sq. ft., needs repair, presence of asbestos/lead paint, most recent use—child development center, off-site use only

Bldg. S6286

Fort Carson

Ft. Carson Co: El Paso CO 80913-

Landholding Agency: Army

Property Number: 21200310055

Status: Unutilized

Comment: 13,128 sq. ft., needs repair, presence of asbestos/lead paint, most recent use—armory, off-site use only

Bldg. T-211

Fort Carson

Ft. Carson Co: El Paso CO 80913-

Landholding Agency: Army

Property Number: 21200340080

Status: Unutilized

Comment: 4172 sq. ft., presence of asbestos/lead paint, most recent use—office, off-site use only

Bldg. S6250

Fort Carson

Ft. Carson Co: El Paso CO 80913-

Landholding Agency: Army

Property Number: 21200340083

Status: Unutilized

Comment: 22,125 sq. ft., presence of asbestos/lead paint, most recent use—armory, off-site use only

Bldg. S6268

Fort Carson

Ft. Carson Co: El Paso CO 80913-

Landholding Agency: Army

Property Number: 21200340085

Status: Unutilized

Comment: 840 sq. ft., presence of asbestos/lead paint, most recent use—storage, off-site use only

Georgia

Bldg. 2285

Fort Benning

Fort Benning Co: Muscogee GA 31905-

Landholding Agency: Army

Property Number: 21199011704

Status: Unutilized

Comment: 4574 sq. ft.; most recent use—clinic; needs substantial rehabilitation; 1 floor

Bldg. 1252, Fort Benning

Ft. Benning Co: Muscogee GA 31905-

Landholding Agency: Army

Property Number: 21199220694

Status: Unutilized

Comment: 583 sq. ft., 1 story, most recent use—storehouse, needs major rehab, off-site removal only

Bldg. 4881, Fort Benning

Ft. Benning Co: Muscogee GA 31905-

Landholding Agency: Army

Property Number: 21199220707

Status: Unutilized

Comment: 2449 sq. ft., 1 story, most recent use—storehouse, need repairs, off-site removal only

Bldg. 4963, Fort Benning

Ft. Benning Co: Muscogee GA 31905-

Landholding Agency: Army

Property Number: 21199220710

Status: Unutilized

Comment: 6077 sq. ft., 1 story, most recent use—storehouse, need repairs, off-site removal only

Bldg. 2396, Fort Benning

Ft. Benning Co: Muscogee GA 31905-

Landholding Agency: Army

Property Number: 21199220712

Status: Unutilized

Comment: 9786 sq. ft., 1 story, most recent use—dining facility, needs major rehab, off-site removal only

Bldg. 4882, Fort Benning

Ft. Benning Co: Muscogee GA 31905-

Landholding Agency: Army

Property Number: 21199220727

Status: Unutilized

Comment: 6077 sq. ft., 1 story, most recent use—storage, need repairs, off-site removal only

Bldg. 4967, Fort Benning

Ft. Benning Co: Muscogee GA 31905-

Landholding Agency: Army

Property Number: 21199220728

Status: Unutilized

Comment: 6077 sq. ft., 1 story, most recent use—storage, need repairs, off-site removal only

Bldg. 4977, Fort Benning

Ft. Benning Co: Muscogee GA 31905-

Landholding Agency: Army

Property Number: 21199220736

Status: Unutilized

Comment: 192 sq. ft., 1 story, most recent use—offices, need repairs, off-site removal only

Bldg. 4944, Fort Benning

Ft. Benning Co: Muscogee GA 31905-

Landholding Agency: Army

Property Number: 21199220747

Status: Unutilized

Comment: 6400 sq. ft., 1 story, most recent use—vehicle maintenance shop, need repairs, off-site removal only

Bldg. 4960, Fort Benning

Ft. Benning Co: Muscogee GA 31905-

Landholding Agency: Army

Property Number: 21199220752

Status: Unutilized

Comment: 3335 sq. ft., 1 story, most recent use—vehicle maintenance shop, off-site removal only

Bldg. 4969, Fort Benning

Ft. Benning Co: Muscogee GA 31905-

Landholding Agency: Army

Property Number: 21199220753

Status: Unutilized

Comment: 8416 sq. ft., 1 story, most recent use—vehicle maintenance shop, off-site removal only

Bldg. 4884, Fort Benning

Ft. Benning Co: Muscogee GA 31905-

Landholding Agency: Army

Property Number: 21199220762

Status: Unutilized

Comment: 2000 sq. ft., 1 story, most recent use—headquarters bldg., need repairs, off-site removal only

Bldg. 4964, Fort Benning

Ft. Benning Co: Muscogee GA 31905-

Landholding Agency: Army

Property Number: 21199220763

Status: Unutilized

Comment: 2000 sq. ft., 1 story, most recent use—headquarters bldg., need repairs, off-site removal only

Bldg. 4966, Fort Benning

Ft. Benning Co: Muscogee GA 31905-

Landholding Agency: Army

Property Number: 21199220764

Status: Unutilized

Comment: 2000 sq. ft., 1 story, most recent use—headquarters bldg., need repairs, off-site removal only

Bldg. 4965, Fort Benning

Ft. Benning Co: Muscogee GA 31905-

Landholding Agency: Army

Property Number: 21199220769

Status: Unutilized

Comment: 7713 sq. ft., 1 story, most recent use—supply bldg., need repairs, off-site removal only

Bldg. 4945, Fort Benning

Ft. Benning Co: Muscogee GA 31905-

Landholding Agency: Army

Property Number: 21199220779

Status: Unutilized

Comment: 220 sq. ft., 1 story, most recent use—gas station, needs major rehab, off-site removal only

Bldg. 4979, Fort Benning

Ft. Benning Co: Muscogee GA 31905-

Landholding Agency: Army

Property Number: 21199220780

Status: Unutilized

Comment: 400 sq. ft., 1 story, most recent use—oil house, need repairs, off-site removal only

Bldg. 4023, Fort Benning

Ft. Benning Co: Muscogee GA 31905-

Landholding Agency: Army

Property Number: 21199310461

Status: Unutilized

Comment: 2269 sq. ft., 1-story, needs rehab, most recent use—maintenance shop, off-site use only

Bldg. 4024, Fort Benning

Ft. Benning Co: Muscogee GA 31905-

Landholding Agency: Army

Property Number: 21199310462

Status: Unutilized

Comment: 3281 sq. ft., 1-story, needs rehab, most recent use—maintenance shop, off-site use only

Bldg. 11813

Fort Gordon

Fort Gordon Co: Richmond GA 30905-

Landholding Agency: Army

Property Number: 21199410269

Status: Unutilized

Comment: 70 sq. ft.; 1 story; metal; needs rehab.; most recent use—storage; off-site use only

Bldg. 21314

Fort Gordon

Fort Gordon Co: Richmond GA 30905-

Landholding Agency: Army

Property Number: 21199410270

Status: Unutilized

Comment: 85 sq. ft.; 1 story; needs rehab.; most recent use—storage; off-site use only

Bldg. 12809

Fort Gordon

Fort Gordon Co: Richmond GA 30905-

Landholding Agency: Army

Property Number: 21199410272

Status: Unutilized

Comment: 2788 sq. ft.; 1 story; wood; needs rehab.; most recent use—maintenance shop; off-site use only

Bldg. 10306

Fort Gordon

Fort Gordon Co: Richmond GA 30905-

Landholding Agency: Army

Property Number: 21199410273

Status: Unutilized

Comment: 195 sq. ft.; 1 story; wood; most recent use—oil storage shed; off-site use only

Bldg 4051, Fort Benning

Ft. Benning Co: Muscogee GA 31905-

Landholding Agency: Army

Property Number: 21199520175

Status: Unutilized

Comment: 967 sq. ft., 1-story, needs rehab, most recent use—storage, off-site use only

Bldg. 322

Fort Benning

Ft. Benning Co: Muscogee GA 31905-

Landholding Agency: Army

Property Number: 21199720156

Status: Unutilized

Comment: 9600 sq. ft., needs rehab, most recent use—admin., off-site use only

Bldg. 1737

Fort Benning

Ft. Benning Co: Muscogee GA 31905-

Landholding Agency: Army

Property Number: 21199720161

Status: Unutilized

Comment: 1500 sq. ft., needs rehab, most recent use—storage, off-site use only

Bldg. 2593

Fort Benning

Ft. Benning Co: Muscogee GA 31905-

Landholding Agency: Army

Property Number: 21199720167

Status: Unutilized

Comment: 13644 sq. ft., needs rehab, most recent use—parachute shop, off-site use only

Bldg. 2595

Fort Benning

Ft. Benning Co: Muscogee GA 31905-

Landholding Agency: Army

Property Number: 21199720168

Status: Unutilized

Comment: 3356 sq. ft., needs rehab, most recent use—chapel, off-site use only

Bldg. 4476

Fort Benning

Ft. Benning Co: Muscogee GA 31905-

Landholding Agency: Army

Property Number: 21199720184

Status: Unutilized

Comment: 3148 sq. ft., needs rehab, most recent use—vehicle maint. shop, off-site use only

8 Bldgs.

Fort Benning 4700-4701, 4704-4707, 4710-4711

Ft. Benning Co: Muscogee GA 31905-

Landholding Agency: Army

Property Number: 21199720189

Status: Unutilized

Comment: 6433 sq. ft. each, needs rehab, most recent use—unaccompanied personnel housing, off-site use only

Bldg. 4714

Fort Benning

Ft. Benning Co: Muscogee GA 31905-

Landholding Agency: Army

Property Number: 21199720191

Status: Unutilized

Comment: 1983 sq. ft., needs rehab, most recent use—battalion headquarters bldg., off-site use only

Bldg. 4702

Fort Benning

Ft. Benning Co: Muscogee GA 31905-

Landholding Agency: Army

Property Number: 21199720192

Status: Unutilized

Comment: 3690 sq. ft., needs rehab, most recent use—dining facility off-site use only

Bldgs. 4712-4713

Fort Benning

Ft. Benning Co: Muscogee GA 31905-

Landholding Agency: Army

Property Number: 21199720193

Status: Unutilized

Comment: 1983 sq. ft. and 10270 sq. ft., needs rehab, most recent use—company headquarters bldg., off-site use only

Bldg. 305

Fort Benning

Ft. Benning Co: Muscogee GA 31905-

Landholding Agency: Army

Property Number: 21199810268

Status: Unutilized

Comment: 4083 sq. ft., most recent use—recreation center, off-site use only

Bldg. 318

Fort Benning

Ft. Benning Co: Muscogee GA 31905-

Landholding Agency: Army

Property Number: 21199810269

Status: Unutilized

Comment: 374 sq. ft., poor condition, most recent use—maint. shop, off-site use only

Bldg. 1792

Fort Benning

Ft. Benning Co: Muscogee GA 31905-

Landholding Agency: Army

Property Number: 21199810274

Status: Unutilized

Comment: 10,200 sq. ft., most recent use—storage, off-site use only

Bldg. 1836

Fort Benning

Ft. Benning Co: Muscogee GA 31905-

Landholding Agency: Army

Property Number: 21199810276

Status: Unutilized

Comment: 2998 sq. ft., most recent use—admin., off-site use only

Bldg. 4373

Fort Benning

Ft. Benning Co: Muscogee GA 31905-

Landholding Agency: Army

Property Number: 21199810286

Status: Unutilized

Comment: 409 sq. ft., poor condition, most recent use—station bldg. off-site use only

Bldg. 4628

Fort Benning

Ft. Benning Co: Muscogee GA 31905-

Landholding Agency: Army

Property Number: 21199810287

Status: Unutilized

Comment: 5483 sq. ft., most recent use—admin., off-site use only

Bldg. 92

Fort Benning

Co: Muscogee GA 31905-

Landholding Agency: Army

Property Number: 21199830278

Status: Unutilized

Comment: 637 sq. ft., needs rehab, most recent use—admin., off-site use only

Bldg. 2445

Fort Benning

Co: Muscogee GA 31905-

Landholding Agency: Army

Property Number: 21199830279

Status: Unutilized

Comment: 2385 sq. ft., needs rehab, most recent use—fire station, off-site use only

Bldg. 4232

Fort Benning

Co: Muscogee GA 31905-

Landholding Agency: Army

Property Number: 21199830291

Status: Unutilized

Comment: 3720 sq. ft., needs rehab, most recent use—maint. bay, off-site use only

Bldg. 39720

Fort Gordon

Ft. Gordon Co: Richmond GA 30905-

Landholding Agency: Army

Property Number: 21199930119

Status: Unutilized

Comment: 1520 sq. ft., concrete block, possible asbestos/lead paint, most recent use—office, off-site use only

Bldg. 492

Fort Benning

Ft. Benning Co: Muscogee GA 31905-

Landholding Agency: Army

Property Number: 21199930120

Status: Unutilized

Comment: 720 sq. ft., most recent use—admin/maint, off-site use only

Bldg. 880

Fort Benning

Ft. Benning Co: Muscogee GA 31905-

Landholding Agency: Army

Property Number: 21199930121

Status: Unutilized

Comment: 57,110 sq. ft., most recent use—instruction, off-site use only

Bldg. 1370

Fort Benning

Ft. Benning Co: Muscogee GA 31905-

Landholding Agency: Army

Property Number: 21199930122

Status: Unutilized

Comment: 5204 sq. ft., most recent use—hdqts. bldg., off-site use only

Bldg. 2288

Fort Benning

Ft. Benning Co: Muscogee GA 31905-

Landholding Agency: Army

Property Number: 21199930123

Status: Unutilized

Comment: 2481 sq. ft., most recent use—admin., off-site use only

Bldg. 2290

Fort Benning

Ft. Benning Co: Muscogee GA 31905-

Landholding Agency: Army

Property Number: 21199930124

Status: Unutilized

Comment: 455 sq. ft., most recent use—storage, off-site use only

Bldg. 2293

Fort Benning

Ft. Benning Co: Muscogee GA 31905-

Landholding Agency: Army

Property Number: 21199930125

Status: Unutilized

Comment: 2600 sq. ft., most recent use—hdqts. bldg., off-site use only

Bldg. 2297

Fort Benning

Ft. Benning Co: Muscogee GA 31905-

Landholding Agency: Army

Property Number: 21199930126

Status: Unutilized

Comment: 5156 sq. ft., most recent use—admin.

Bldg. 2505

Fort Benning

Ft. Benning Co: Muscogee GA 31905-

Landholding Agency: Army

Property Number: 21199930127

Status: Unutilized

Comment: 10,257 sq. ft., most recent use—repair shop, off-site use only.

Bldg. 2508

Fort Benning

Ft. Benning Co: Muscogee GA 31905-

Landholding Agency: Army

Property Number: 21199930128

Status: Unutilized

Comment: 2434 sq. ft., most recent use—storage, off-site use only.

Bldg. 2815

Fort Benning

Ft. Benning Co: Muscogee GA 31905-

Landholding Agency: Army

Property Number: 21199930129

Status: Unutilized

Comment: 2578 sq. ft., most recent use—hdqts. bldg., off-site use only.

Bldg. 3815

Fort Benning

Ft. Benning Co: Muscogee GA 31905-

Landholding Agency: Army

Property Number: 21199930130

Status: Unutilized

Comment: 7575 sq. ft., most recent use—storage, off-site use only.

Bldg. 3816

Fort Benning

Ft. Benning Co: Muscogee GA 31905-

Landholding Agency: Army

Property Number: 21199930131

Status: Unutilized

Comment: 7514 sq. ft., most recent use—storage, off-site use only.

Bldg. 5886

Fort Benning

Ft. Benning Co: Muscogee GA 31905-

Landholding Agency: Army

Property Number: 21199930134

Status: Unutilized

Comment: 67 sq. ft., most recent use—maint/storage, off-site use only.

Bldgs. 5974-5978

Fort Benning

Ft. Benning Co: Muscogee GA 31905-

Landholding Agency: Army

Property Number: 21199930135

Status: Unutilized

Comment: 400 sq. ft., most recent use—storage, off-site use only.

Bldg. 5993

Fort Benning

Ft. Benning Co: Muscogee GA 31905-

Landholding Agency: Army

Property Number: 21199930136

Status: Unutilized

Comment: 960 sq. ft., most recent use—storage, off-site use only.

Bldg. 5994

Fort Benning

Ft. Benning Co: Muscogee GA 31905-

Landholding Agency: Army

Property Number: 21199930137

Status: Unutilized

Comment: 2016 sq. ft., most recent use—storage, off-site use only.

Bldg. T-1003

Fort Stewart

Hinesville Co: Liberty GA 31514-

Landholding Agency: Army

Property Number: 21200030085

Status: Excess

Comment: 9267 sq. ft., poor condition, most recent use—admin., off-site use only

Bldgs. T-1005, T-1006, T-1007

Fort Stewart

Hinesville Co: Liberty GA 31514-

Landholding Agency: Army

Property Number: 21200030086

Status: Excess

Comment: 9267 sq. ft., poor condition, most recent use—storage, off-site use only

Bldgs. T-1015, T-1016, T-1017

Fort Stewart

Hinesville Co: Liberty GA 31514-

Landholding Agency: Army

Property Number: 21200030087

Status: Excess

Comment: 7496 sq ft., poor condition, most recent use—storage, off-site use only

Bldgs. T-1018, T-1019

Fort Stewart

Hinesville Co: Liberty GA 31514-

Landholding Agency: Army

Property Number: 21200030088

Status: Excess

Comment: 9267 sq. ft., poor condition, most recent use—storage, off-site use only

Bldgs. T-1020, T-1021

Fort Stewart

Hinesville Co: Liberty GA 31514-

Landholding Agency: Army

Property Number: 21200030089

Status: Excess

Comment: 9267 sq. ft., poor condition, most recent use—storage, off-site use only

Bldg. T-1022

Fort Stewart

Hinesville Co: Liberty GA 31514-

Landholding Agency: Army

Property Number: 21200030090

Status: Excess

Comment: 9267 sq. ft., poor condition, most recent use—supply center, off-site use only

Bldg. T-1027

Fort Stewart

Hinesville Co: Liberty GA 31514-

Landholding Agency: Army

Property Number: 21200030091

Status: Excess

Comment: 9024 sq ft., poor condition, most recent use—storage, off-site use only

Bldg. T-1028

Fort Stewart

Hinesville Co: Liberty GA 31514-

Landholding Agency: Army

Property Number: 21200030092

Status: Excess

Comment: 7496 sq. ft., poor condition, most recent use—storage, off-site use only

Bldgs. T-1035, T-1036, T-1037

Fort Stewart

Hinesville Co: Liberty GA 31514-

Landholding Agency: Army

Property Number: 21200030093

Status: Excess

Comment: 1626 sq ft., poor condition, most recent use—storage, off-site use only

Bldgs. T-1038, T-1039

Fort Stewart

Hinesville Co: Liberty GA 31514-

Landholding Agency: Army

Property Number: 21200030094

Status: Excess

Comment: 1626 sq. ft., poor condition, most recent use—storage, off-site use only

Bldgs. T-1040, T-1042

Fort Stewart

Hinesville Co: Liberty GA 31514-

Landholding Agency: Army

Property Number: 21200030095

Status: Excess

Comment: 1626 sq. ft., poor condition, most recent use—storage, off-site use only

Bldgs. T-1086, T-1087, T-1088

Fort Stewart

Hinesville Co: Liberty GA 31514-

Landholding Agency: Army

Property Number: 21200030096

Status: Excess

Comment: 7680 sq. ft., poor condition, most recent use—storage, off-site use only

Bldg. 223

Fort Benning

Ft. Benning Co: Muscogee GA 31905-

Landholding Agency: Army

Property Number: 21200040044

Status: Unutilized

Comment: 21,556 sq. ft., most recent use—gen. purpose

Bldg. 228

Fort Benning

Ft. Benning Co: Muscogee GA 31905-

Landholding Agency: Army

Property Number: 21200040045

Status: Unutilized

Comment: 20,220 sq. ft., most recent use—gen. purpose

Bldg. 2051

Fort Benning

Ft. Benning Co: Muscogee GA 31905-

Landholding Agency: Army

Property Number: 21200040046

Status: Unutilized

Comment: 6077 sq. ft., most recent use—storage

Bldg. 2053

Fort Benning

Ft. Benning Co: Muscogee GA 31905-

Landholding Agency: Army

Property Number: 21200040047

Status: Unutilized

Comment: 14,520 sq. ft., most recent use—storage

Bldg. 2677

Fort Benning

Ft. Benning Co: Muscogee GA 31905-

Landholding Agency: Army

Property Number: 21200040048

Status: Unutilized

Comment: 19,326 sq. ft., most recent use—maint. shop

Bldg. 02301

Fort Gordon

Ft. Gordon Co: Richmond GA 30905-

Landholding Agency: Army

Property Number: 21200140075

Status: Unutilized

Comment: 8484 sq. ft., needs major rehab, potential asbestos/lead paint, most recent use—storage, off-site use only

Bldg. T0130

Fort Stewart

Hinesville Co: Liberty GA 31314-5136

Landholding Agency: Army

Property Number: 21200230041

Status: Excess

Comment: 10,813 sq. ft., off-site use only

Bldg. T0157

Fort Stewart

Hinesville Co: Liberty GA 31314-5136

Landholding Agency: Army

Property Number: 21200230042

Status: Excess

Comment: 1440 sq. ft., off-site use only

Bldg. T0251

Fort Stewart

Hinesville Co: Liberty GA 31314-5136

Landholding Agency: Army

Property Number: 21200230043

Status: Excess

Comment: 27,254 sq. ft., off-site use only

Bldgs. T291, T292

Fort Stewart

Hinesville Co: Liberty GA 31314-5136

Landholding Agency: Army

Property Number: 21200230044

Status: Excess

Comment: 5220 sq. ft. each, off-site use only

Bldg. T0295

Fort Stewart

Hinesville Co: Liberty GA 31314-5136

Landholding Agency: Army

Property Number: 21200230045

Status: Excess

Comment: 5220 sq. ft., off-site use only

Bldg. T0470

Fort Stewart

Hinesville Co: Liberty GA 31314-5136

Landholding Agency: Army

Property Number: 21200230046

Status: Excess

Comment: 27,254 sq. ft., off-site use only

Bldg. T1191

Fort Stewart

Hinesville Co: Liberty GA 31314-5136

Landholding Agency: Army

Property Number: 21200230047

Status: Excess

Comment: 9386 sq. ft., off-site use only

Bldg. T1192

Fort Stewart

Hinesville Co: Liberty GA 31314-5136

Landholding Agency: Army

Property Number: 21200230048

Status: Excess

Comment: 3992 sq. ft., off-site use only

Bldgs. 00064, 00065

Camp Frank D. Merrill

Dahlonega Co: Lumpkin GA 30597-

Landholding Agency: Army

Property Number: 21200330108

Status: Unutilized

Comment: 648 sq. ft. each, concrete block, most recent use—water support treatment bldg., off-site use only

Hawaii

P-88

Aliamanu Military Reservation

Honolulu Co: Honolulu HI 96818-

Location: Approximately 600 feet from Main Gate on Aliamanu Drive.

Landholding Agency: Army

Property Number: 21199030324

Status: Unutilized

Comment: 45,216 sq. ft. underground tunnel complex, pres. of asbestos clean-up required of contamination, use of respirator required by those entering property, use limitations

Bldg. T-337

Fort Shafter

Honolulu Co: Honolulu HI 96819-

Landholding Agency: Army

Property Number: 21199640203

Status: Unutilized

Comment: 132 sq. ft., most recent use—storage, off-site use only

Bldg. 06508

Schofield Barracks

Wahiawa Co: HI 96786-

Landholding Agency: Army

Property Number: 21200220106

Status: Unutilized

Comment: 1140 sq. ft., most recent use—office, off-site use only

Illinois

Bldg. 54

Rock Island Arsenal

Rock Island Co: Rock Island IL 61299-

Landholding Agency: Army

Property Number: 21199620666

Status: Unutilized

Comment: 2000 sq. ft., most recent use—oil storage, needs repair, off-site use only

Bldg. AR112

Sheridan Reserve

Arlington Heights Co: IL 60052-2475

Landholding Agency: Army

Property Number: 21200110081

Status: Unutilized

Comment: 1000 sq. ft., off-site use only

Louisiana

Bldg. 8423, Fort Polk

Ft. Polk Co: Vernon Parish LA 71459-

Landholding Agency: Army

Property Number: 21199640528

Status: Underutilized

Comment: 4172 sq. ft., most recent use—barracks

Maryland

Bldg. 2837

Fort George G. Meade

Ft. Meade Co: Anne Arundel MD 20755-5115

Landholding Agency: Army

Property Number: 21200120101

Status: Unutilized

Comment: 7670 sq. ft., presence of asbestos/lead paint, most recent use—admin., off-site use only

Bldg. 00313

Aberdeen Proving Ground

Aberdeen Co: Harford MD 21005-5001

Landholding Agency: Army

Property Number: 21200120104

Status: Unutilized

Comment: 983 sq. ft., most recent use—storage, off-site use only

Bldg. 00340

Aberdeen Proving Ground

Aberdeen Co: Harford MD 21005-5001

Landholding Agency: Army

Property Number: 21200120105

Status: Unutilized

Comment: 384 sq. ft., most recent use—storage, off-site use only

Bldg. 0459B

Aberdeen Proving Ground

Aberdeen Co: Harford MD 21005-5001

Landholding Agency: Army

Property Number: 21200120106

Status: Unutilized

Comment: 225 sq. ft., poor condition, most recent use—equipment bldg., off-site use only

Bldg. 00785

Aberdeen Proving Ground

Aberdeen Co: Harford MD 21005-5001

Landholding Agency: Army

Property Number: 21200120107

Status: Unutilized

Comment: 160 sq. ft., poor condition, most recent use—shelter, off-site use only

Bldg. E3728

Aberdeen Proving Ground

Aberdeen Co: Harford MD 21005-5001

Landholding Agency: Army

Property Number: 21200120109

Status: Unutilized

Comment: 2596 sq. ft., presence of asbestos/lead paint, most recent use—testing facility, off-site use only

Bldg. 05213

Aberdeen Proving Ground

Aberdeen Co: Harford MD 21005-5001

Landholding Agency: Army

Property Number: 21200120112

Status: Unutilized

Comment: 200 sq .ft., poor condition, most recent use—storage, off-site use only

Bldg. E5239

Aberdeen Proving Ground

Aberdeen Co: Harford MD 21005-5001

Landholding Agency: Army

Property Number: 21200120113

Status: Unutilized

Comment: 230 sq. ft., most recent use—storage, off-site use only

Bldg. E5317

Aberdeen Proving Ground

Aberdeen Co: Harford MD 21005-5001

Landholding Agency: Army

Property Number: 21200120114

Status: Unutilized

Comment: 3158 sq. ft., presence of asbestos/lead paint, most recent use—lab, off-site use only

Bldg. E5637

Aberdeen Proving Ground

Aberdeen Co: Harford MD 21005-5001

Landholding Agency: Army

Property Number: 21200120115

Status: Unutilized

Comment: 312 sq. ft., presence of asbestos/lead paint, most recent use—lab, off-site use only

Bldg. 503

Fort George G. Meade

Ft. Meade Co: Anne Arundel MD 20755-5115

Landholding Agency: Army

Property Number: 21200130092

Status: Unutilized

Comment: 14,244 sq. ft., needs rehab, presence of asbestos/lead paint, most recent use—training, off-site use only

Bldg. 8481

Fort George G. Meade

Ft. Meade Co: Anne Arundel MD 20755-5115

Landholding Agency: Army

Property Number: 21200130098

Status: Unutilized

Comment: 7718 sq. ft., needs rehab, presence of asbestos/lead paint, most recent use—heat plant, off-site use only

Bldg. 219

Ft. George G. Meade

Ft. Meade Co: Anne Arundel MD 20755-

Landholding Agency: Army

Property Number: 21200140078

Status: Unutilized

Comment: 8142 sq. ft., presence of asbestos/lead paint, most recent use—admin., off-site use only

Bldg. 229

Ft. George G. Meade

Ft. Meade Co: Anne Arundel MD 20755-

Landholding Agency: Army

Property Number: 21200140079

Status: Unutilized

Comment: 2250 sq. ft., presence of asbestos/lead paint, most recent use—admin., off-site use only

Bldg. 287

Ft. George G. Meade

Ft. Meade Co: Anne Arundel MD 20755-

Landholding Agency: Army

Property Number: 21200140080

Status: Unutilized

Comment: 2892 sq. ft., presence of asbestos/lead paint, most recent use—storehouse, off-site use only

Bldg. 294

Ft. George G. Meade

Ft. Meade Co: Anne Arundel MD 20755-

Landholding Agency: Army

Property Number: 21200140081

Status: Unutilized

Comment: 3148 sq. ft., presence of asbestos/lead paint, most recent use—entomology facility, off-site use only

Bldg. 949

Ft. George G. Meade

Ft. Meade Co: Anne Arundel MD 20755-

Landholding Agency: Army

Property Number: 21200140083

Status: Unutilized

Comment: 2441 sq. ft., presence of asbestos/lead paint, most recent use—storehouse, off-site use only

Bldg. 979

Ft. George G. Meade

Ft. Meade Co: Anne Arundel MD 20755-

Landholding Agency: Army

Property Number: 21200140084

Status: Unutilized

Comment: 2331 sq. ft., presence of asbestos/lead paint, most recent use—admin., off-site use only

Bldg. 1007

Ft. George G. Meade

Ft. Meade Co: Anne Arundel MD 20755-

Landholding Agency: Army

Property Number: 21200140085

Status: Unutilized

Comment: 3108 sq. ft., presence of asbestos/lead paint, most recent use—storage, off-site use only

Bldg. 00546

Fort Meade

Ft. Meade Co: Anne Arundel MD 20755-

Landholding Agency: Army

Property Number: 21200220109

Status: Unutilized

Comment: 5659 sq. ft., possible asbestos/lead paint, most recent use—admin., off-site use only

Bldg. 00939

Fort Meade

Ft. Meade Co: Anne Arundel MD 20755-

Landholding Agency: Army

Property Number: 21200220110

Status: Unutilized

Comment: 8185 sq. ft., possible asbestos/lead paint, most recent use—admin., off-site use only

Bldg. 02207

Fort Meade

Ft. Meade Co: Anne Arundel MD 20755-

Landholding Agency: Army

Property Number: 21200220112

Status: Unutilized

Comment: 6855 sq. ft., possible asbestos/lead paint, most recent use—storage, off-site use only

Bldg. 02271

Fort Meade

Ft. Meade Co: Anne Arundel MD 20755-

Landholding Agency: Army

Property Number: 21200220114

Status: Unutilized

Comment: 10,080 sq. ft., possible asbestos/lead paint, most recent use—storage, off-site use only

Bldg. 04675

Fort Meade

Ft. Meade Co: Anne Arundel MD 20755-

Landholding Agency: Army

Property Number: 21200220115

Status: Unutilized

Comment: 1710 sq. ft., possible asbestos/lead paint, most recent use—rental store, off-site use only

Bldg. 2050A

Fort George G. Meade

Fort Meade Co: Anne Arundel MD 20755-

Landholding Agency: Army

Property Number: 21200230051

Status: Unutilized

Comment: 200 sq. ft., needs rehab, most recent use—storage, off-site use only

Bldg. 2214

Fort George G. Meade

Fort Meade Co: Anne Arundel MD 20755-

Landholding Agency: Army

Property Number: 21200230054

Status: Unutilized

Comment: 7740 sq. ft., needs rehab, possible asbestos/lead paint, most recent use—storage, off-site use only

Bldg. 2217

Fort George G. Meade

Fort Meade Co: Anne Arundel MD 20755-

Landholding Agency: Army

Property Number: 21200230055

Status: Unutilized

Comment: 7710 sq. ft., needs rehab, possible asbestos/lead paint, most recent use—admin/warehouse, off-site use only

Bldg. 2253

Fort George G. Meade

Fort Meade Co: Anne Arundel MD 20755-

Landholding Agency: Army

Property Number: 21200230056

Status: Unutilized

Comment: 18,912 sq. ft., needs rehab, possible asbestos/lead paint, most recent use—vehicle maint. shop, off-site use only

Bldg. 2275

Fort George G. Meade

Fort Meade Co: Anne Arundel MD 20755-

Landholding Agency: Army

Property Number: 21200230057

Status: Unutilized

Comment: 10,080 sq. ft., needs rehab, possible asbestos/lead paint, most recent use—warehouse, off-site use only

Bldg. 2276

Fort George G. Meade

Fort Meade Co: Anne Arundel MD 20755-

Landholding Agency: Army

Property Number: 21200230058

Status: Unutilized

Comment: 10,080 sq. ft., needs rehab, possible asbestos/lead paint, most recent use—warehouse, off-site use only

Bldg. 2273

Ft. George G. Meade

Ft. Meade Co: MD 20755-5115

Landholding Agency: Army

Property Number: 21200320105

Status: Unutilized

Comment: 54 sq. ft., most recent use—storage, off-site use only

Bldg. 2456

Ft. George G. Meade

Ft. Meade Co: MD 20755-5115

Landholding Agency: Army

Property Number: 21200320106

Status: Unutilized

Comment: 4720 sq. ft., presence of asbestos/lead paint, most recent use—clinic, off-site use only

Bldg. 00375

Aberdeen Proving Grounds

Aberdeen Co: Harford MD 21005-

Landholding Agency: Army

Property Number: 21200320107

Status: Unutilized

Comment: 64 sq. ft., most recent use—storage, off-site use only

Bldg. 0384A

Aberdeen Proving Grounds

Aberdeen Co: Harford MD 21005-

Landholding Agency: Army

Property Number: 21200320108

Status: Unutilized

Comment: 130 sq. ft., most recent use—ordnance facility, off-site use only

Bldg. 00385

Aberdeen Proving Grounds

Aberdeen Co: Harford MD 21005-

Landholding Agency: Army

Property Number: 21200320109

Status: Unutilized

Comment: 5517 sq. ft., most recent use—storage, off-site use only

Bldg. 0385A

Aberdeen Proving Grounds

Aberdeen Co: Harford MD 21005-

Landholding Agency: Army

Property Number: 21200320110

Status: Unutilized

Comment: 944 sq. ft., off-site use only

Bldg. 00442

Aberdeen Proving Grounds

Aberdeen Co: Harford MD 21005-

Landholding Agency: Army

Property Number: 21200320111

Status: Unutilized

Comment: 900 sq. ft., most recent use—storage, off-site use only

Bldg. 00443

Aberdeen Proving Grounds

Aberdeen Co: Harford MD 21005-

Landholding Agency: Army

Property Number: 21200320112

Status: Unutilized

Comment: 1488 sq. ft., off-site use only

Bldg. 00523

Aberdeen Proving Grounds

Aberdeen Co: Harford MD 21005-

Landholding Agency: Army

Property Number: 21200320113

Status: Unutilized

Comment: 3897 sq. ft., most recent use—paint shop, off-site use only

Bldg. 00524

Aberdeen Proving Grounds

Aberdeen Co: Harford MD 21005-

Landholding Agency: Army

Property Number: 21200320114

Status: Unutilized

Comment: 240 sq. ft., most recent use—storage, off-site use only

Bldg. 0645A

Aberdeen Proving Grounds

Aberdeen Co: Harford MD 21005-

Landholding Agency: Army

Property Number: 21200320115

Status: Unutilized

Comment: 64 sq. ft., most recent use—storage, off-site use only

Bldg. 00649

Aberdeen Proving Grounds

Aberdeen Co: Harford MD 21005-

Landholding Agency: Army

Property Number: 21200320116

Status: Unutilized

Comment: 1079 sq. ft., most recent use—storage, off-site use only

Bldg. 00650

Aberdeen Proving Grounds

Aberdeen Co: Harford MD 21005-

Landholding Agency: Army

Property Number: 21200320117

Status: Unutilized

Comment: 4215 sq. ft., most recent use—storage, off-site use only

Bldgs. 00654, 00655

Aberdeen Proving Grounds

Aberdeen Co: Harford MD 21005-

Landholding Agency: Army

Property Number: 21200320118

Status: Unutilized

Comment: 1110 sq. ft., off-site use only

Bldg. 00657

Aberdeen Proving Grounds

Aberdeen Co: Harford MD 21005-

Landholding Agency: Army

Property Number: 21200320119

Status: Unutilized

Comment: 1048 sq. ft., most recent use—bunker, off-site use only

Bldgs. 00679, 00705

Aberdeen Proving Grounds

Aberdeen Co: Harford MD 21005-

Landholding Agency: Army

Property Number: 21200320120

Status: Unutilized

Comment: 119/100 sq. ft., most recent use—safety shelter, off-site use only

Bldg. 0700B

Aberdeen Proving Grounds

Aberdeen Co: Harford MD 21005-

Landholding Agency: Army

Property Number: 21200320121

Status: Unutilized

Comment: 505 sq. ft., off-site use only

Bldg. 00741

Aberdeen Proving Grounds

Aberdeen Co: Harford MD 21005-

Landholding Agency: Army

Property Number: 21200320122

Status: Unutilized

Comment: 894 sq. ft., most recent use—storage, off-site use only

Bldg. 00768

Aberdeen Proving Grounds

Aberdeen Co: Harford MD 21005-

Landholding Agency: Army

Property Number: 21200320123

Status: Unutilized

Comment: 97 sq. ft., most recent use—observation bldg., off-site use only

Bldg. 00786

Aberdeen Proving Grounds

Aberdeen Co: Harford MD 21005-

Landholding Agency: Army

Property Number: 21200320124

Status: Unutilized

Comment: 1600 sq. ft., most recent use—ordnance bldg., off-site use only

Bldgs. 00900, 00911

Aberdeen Proving Grounds

Aberdeen Co: Harford MD 21005-

Landholding Agency: Army

Property Number: 21200320125

Status: Unutilized

Comment: 225/112 sq. ft., most recent use—safety shelter, off-site use only

Bldg. 01101

Aberdeen Proving Grounds

Aberdeen Co: Harford MD 21005-

Landholding Agency: Army

Property Number: 21200320126

Status: Unutilized

Comment: 6435 sq. ft., most recent use—storage, off-site use only

Bldg. 1102A

Aberdeen Proving Grounds

Aberdeen Co: Harford MD 21005-

Landholding Agency: Army

Property Number: 21200320127

Status: Unutilized

Comment: 1416 sq. ft., most recent use—storage, off-site use only

Bldg. 01113

Aberdeen Proving Grounds

Aberdeen Co: Harford MD 21005-

Landholding Agency: Army

Property Number: 21200320128

Status: Unutilized

Comment: 1012 sq. ft., off-site use only

Bldgs. 01124, 01132

Aberdeen Proving Grounds

Aberdeen Co: Harford MD 21005-

Landholding Agency: Army

Property Number: 21200320129

Status: Unutilized

Comment: 740/2448 sq. ft., most recent use—lab, off-site use only

Bldgs. 02373, 02378

Aberdeen Proving Grounds

Aberdeen Co: Harford MD 21005-

Landholding Agency: Army

Property Number: 21200320130

Status: Unutilized

Comment: 8359 sq. ft., most recent use—training, off-site use only

Bldg. 03328

Aberdeen Proving Grounds

Aberdeen Co: Harford MD 21005-

Landholding Agency: Army

Property Number: 21200320131

Status: Unutilized

Comment: 1628 sq. ft., most recent use—exchange, off-site use only

Bldg. 03512

Aberdeen Proving Grounds

Aberdeen Co: Harford MD

Landholding Agency: Army

Property Number: 21200320132

Status: Unutilized

Comment: 10,944 sq. ft., most recent use—storage, off-site use only

Bldg. 03558

Aberdeen Proving Grounds

Aberdeen Co: Harford MD 21005-

Landholding Agency: Army

Property Number: 21200320133

Status: Unutilized

Comment: 18,000 sq. ft., most recent use—storage, off-site use only

Bldgs. 05258, 05260

Aberdeen Proving Grounds

Aberdeen Co: Harford MD 21005-

Landholding Agency: Army

Property Number: 21200320135

Status: Unutilized

Comment: 10067 sq. ft., most recent use—storage, off-site use only

Bldg. 05262

Aberdeen Proving Grounds

Aberdeen Co: Harford MD 21005-

Landholding Agency: Army

Property Number: 21200320136

Status: Unutilized

Comment: 864 sq. ft., most recent use—storage, off-site use only

Bldg. 05608

Aberdeen Proving Grounds

Aberdeen Co: Harford MD 21005-

Landholding Agency: Army

Property Number: 21200320137

Status: Unutilized

Comment: 1100 sq. ft., most recent use—maint bldg., off-site use only

Bldg. E1387

Aberdeen Proving Grounds

Aberdeen Co: Harford MD 21005-

Landholding Agency: Army

Property Number: 21200320138

Status: Unutilized

Comment: 433 sq. ft., most recent use—woodworking shop, off-site use only

Bldg. E1415

Aberdeen Proving Grounds

Aberdeen Co: Harford MD 21005-

Landholding Agency: Army

Property Number: 21200320139

Status: Unutilized

Comment: 730 sq. ft., most recent use—lab, off-site use only

Bldg. E1416

Aberdeen Proving Grounds

Aberdeen Co: Harford MD 21005-

Landholding Agency: Army

Property Number: 21200320140

Status: Unutilized

Comment: 120 sq. ft., most recent use—safety shelter, off-site use only

Bldgs. E1420, E1429

Aberdeen Proving Grounds

Aberdeen Co: Harford MD 21005-

Landholding Agency: Army

Property Number: 21200320141

Status: Unutilized

Comment: 220/150 sq. ft., most recent use—test range/storage, off-site use only

6 Bldgs.

Aberdeen Proving Grounds

Aberdeen Co: Harford MD 21005-

Location: E1432, E1444, E1446, E1447, E1449, E1453

Landholding Agency: Army

Property Number: 21200320142

Status: Unutilized

Comment: various sq. ft., most recent use—range shelter, off-site use only

Bldgs. E1481, E1482

Aberdeen Proving Grounds

Aberdeen Co: Harford MD 21005-

Landholding Agency: Army

Property Number: 21200320143

Status: Unutilized

Comment: 100 sq. ft., most recent use—observation bldg., off-site use only

Bldg. E1484

Aberdeen Proving Grounds

Aberdeen Co: Harford MD 21005-

Landholding Agency: Army

Property Number: 21200320144

Status: Unutilized

Comment: 256 sq. ft., most recent use—admin., off-site use only

Bldgs. E2363, E2610

Aberdeen Proving Grounds

Aberdeen Co: Harford MD 21005-

Landholding Agency: Army

Property Number: 21200320145

Status: Unutilized

Comment: 138/133 sq. ft., most recent use—storage, off-site use only

Bldgs. E3328, E3540, E4261

Aberdeen Proving Grounds

Aberdeen Co: Harford MD 21005-

Landholding Agency: Army

Property Number: 21200320146

Status: Unutilized

Comment: various sq. ft., most recent use—test facilities, off-site use only

Bldg. E5108

Aberdeen Proving Grounds

Aberdeen Co: Harford MD 21005-

Landholding Agency: Army

Property Number: 21200320147

Status: Unutilized

Comment: 5155 sq. ft., most recent use—recreation center, off-site use only

Bldg. E5483

Aberdeen Proving Grounds

Aberdeen Co: Harford MD 21005-

Landholding Agency: Army

Property Number: 21200320148

Status: Unutilized

Comment: 2140 sq. ft., most recent use—vehicle storage, off-site use only

Bldg. E5602

Aberdeen Proving Grounds

Aberdeen Co: Harford MD 21005-

Landholding Agency: Army

Property Number: 21200320149

Status: Unutilized

Comment: 238 sq. ft., most recent use—storage, off-site use only

Bldg. E5645

Aberdeen Proving Grounds

Aberdeen Co: Harford MD 21005-

Landholding Agency: Army

Property Number: 21200320150

Status: Unutilized

Comment: 548 sq. ft., most recent use—storage, off-site use only

Bldg. E7228

Aberdeen Proving Grounds

Aberdeen Co: Harford MD 21005-

Landholding Agency: Army

Property Number: 21200320151

Status: Unutilized

Comment: 441 sq. ft., off-site use only

Bldg. 2728

Fort Meade

Ft. Meade Co: Anne Arundel MD 20755-

Landholding Agency: Army

Property Number: 21200330109

Status: Unutilized

Comment: 4072 sq. ft., most recent use—storage, off-site use only

Bldgs. 00264, 00265

Aberdeen Proving Grounds

Aberdeen Co: Harford MD 21005-

Landholding Agency: Army

Property Number: 21200330110

Status: Unutilized

Comment: 1322/1048 sq. ft., needs, rehab, most recent use—storage, off-site use only

Bldg. 00435

Aberdeen Proving Grounds

Aberdeen Co: Harford MD 21005-

Landholding Agency: Army

Property Number: 21200330111

Status: Unutilized

Comment: 1191 sq. ft., needs rehab, most recent use—storage, off-site use only

Bldg. 0449A

Aberdeen Proving Grounds

Aberdeen Co: Harford MD 21005-

Landholding Agency: Army

Property Number: 21200330112

Status: Unutilized

Comment: 143 sq. ft., needs rehab, most recent use—substation switch bldg., off-site use only

Bldgs. 00458, 00464

Aberdeen Proving Grounds

Aberdeen Co: Harford MD 21005-

Landholding Agency: Army

Property Number: 21200330113

Status: Unutilized

Comment: 900/2647 sq. ft., needs rehab, most recent use—storage, off-site use only

Bldg. 0460

Aberdeen Proving Grounds

Aberdeen Co: Harford MD 21005-

Landholding Agency: Army

Property Number: 21200330114

Status: Unutilized

Comment: 1800 sq. ft., needs rehab, most recent use—electrical EQ bldg., off-site use only

Bldgs. 00506, 00509, 00605

Aberdeen Proving Grounds

Aberdeen Co: Harford MD 21005-

Landholding Agency: Army

Property Number: 21200330115

Status: Unutilized

Comment: 38,690/1137 sq. ft., needs rehab, most recent use—storage, off-site use only

Bldg. 00724

Aberdeen Proving Ground

Aberdeen Co: Harford MD 21005-

Landholding Agency: Army

Property Number: 21200330116

Status: Unutilized

Comment: off-site use only

Bldgs. 00728, 00784

Aberdeen Proving Ground

Aberdeen Co: Harford MD 21005-

Landholding Agency: Army

Property Number: 21200330117

Status: Unutilized

Comment: 2100/232 sq. ft., needs rehab, most recent use—storage, off-site use only

Bldg. 00914

Aberdeen Proving Grounds

Aberdeen Co: Harford MD 21005-

Landholding Agency: Army

Property Number: 21200330118

Status: Unutilized

Comment: needs rehab, most recent use—safety shelter, off-site use only

Bldg. 00915

Aberdeen Proving Grounds

Aberdeen Co: Harford MD 21005-

Landholding Agency: Army

Property Number: 21200330119

Status: Unutilized

Comment: 247 sq. ft., needs rehab, most recent use—storage, off-site use only

Bldg. 00931

Aberdeen Proving Grounds

Aberdeen Co: Harford MD 21005-

Landholding Agency: Army

Property Number: 21200330120

Status: Unutilized

Comment: 1400 sq. ft., needs rehab, off-site use only

Bldg. 01050

Aberdeen Proving Grounds

Aberdeen Co: Harford MD 21005-

Landholding Agency: Army

Property Number: 21200330121

Status: Unutilized

Comment: 1050 sq. ft., needs rehab, most recent use—transmitter bldg., off-site use only

Bldg. 1101A

Aberdeen Proving Grounds

Aberdeen Co: Harford MD 21005-

Landholding Agency: Army

Property Number: 21200330122

Status: Unutilized

Comment: 1800 sq. ft., needs rehab, most recent use—ordnance bldg., off-site use only

Bldg. 01169

Aberdeen Proving Grounds

Aberdeen Co: Harford MD 21005-

Landholding Agency: Army

Property Number: 21200330123

Status: Unutilized

Comment: 440 sq. ft., needs rehab, most recent use—admin., off-site use only

Bldg. 01170

Aberdeen Proving Grounds

Aberdeen Co: Harford MD 21005-

Landholding Agency: Army

Property Number: 21200330124

Status: Unutilized

Comment: 600 sq. ft., needs rehab, most recent use—lab test bldg., off-site use only

Bldg. 01171

Aberdeen Proving Grounds

Aberdeen Co: Harford MD 21005-

Landholding Agency: Army

Property Number: 21200330125

Status: Unutilized

Comment: 2412 sq. ft., needs rehab, most recent use—changing facility, off-site use only

Bldg. 01189

Aberdeen Proving Grounds

Aberdeen Co: Harford MD 21005-

Landholding Agency: Army

Property Number: 21200330126

Status: Unutilized

Comment: 800 sq. ft., needs rehab, most recent use—range bldg., off-site use only

Bldg. E1413

Aberdeen Proving Grounds

Aberdeen Co: Harford MD 21005-

Landholding Agency: Army

Property Number: 21200330127

Status: Unutilized

Comment: needs rehab, most recent use—observation tower, off-site use only

Bldgs. E1418, E2148

Aberdeen Proving Grounds

Aberdeen Co: Harford MD 21005-

Landholding Agency: Army

Property Number: 21200330128

Status: Unutilized

Comment: 836/1092 sq. ft., needs rehab, most recent use—storage, off-site use only

Bldg. E1486

Aberdeen Proving Grounds

Aberdeen Co: Harford MD 21005-

Landholding Agency: Army

Property Number: 21200330129

Status: Unutilized

Comment: 388 sq. ft., needs rehab, most recent use—ordnance facility, off-site use only

Bldg. E2314

Aberdeen Proving Grounds

Aberdeen Co: Harford MD 21005-

Landholding Agency: Army

Property Number: 21200330130

Status: Unutilized

Comment: 11,279 sq. ft., needs rehab, most recent use—high explosive bldg., off-site use only

Bldgs. 02350, 02357

Aberdeen Proving Grounds

Aberdeen Co: Harford MD 21005-

Landholding Agency: Army

Property Number: 21200330131

Status: Unutilized

Comment: 163/920 sq. ft., needs rehab, most recent use—storage, off-site use only

Bldg. E2350A

Aberdeen Proving Grounds

Aberdeen Co: Harford MD 21005-

Landholding Agency: Army

Property Number: 21200330132

Status: Unutilized

Comment: 325 sq. ft., needs rehab, most recent use—oil storage, off-site use only

Bldg. 2456

Aberdeen Proving Grounds

Aberdeen Co: Harford MD 21005-

Landholding Agency: Army

Property Number: 21200330133

Status: Unutilized

Comment: 4720 sq. ft., needs rehab, presence of asbestos/lead paint, most recent use—admin., off-site use only

Bldg. E3175

Aberdeen Proving Grounds

Aberdeen Co: Harford MD 21005-

Landholding Agency: Army

Property Number: 21200330134

Status: Unutilized

Comment: 1296 sq. ft., needs rehab, most recent use—hazard bldg., off-site use only

4 Bldgs.

Aberdeen Proving Grounds

Aberdeen Co: Harford MD 21005-

Location: E3224, E3228, E3230, E3232, E3234

Landholding Agency: Army

Property Number: 21200330135

Status: Unutilized

Comment: sq. ft. varies, needs rehab, most recent use—lab test bldgs., off-site use only

Bldg. E3241

Aberdeen Proving Grounds

Aberdeen Co: Harford MD 21005-

Landholding Agency: Army

Property Number: 21200330136

Status: Unutilized

Comment: 592 sq. ft., needs rehab, most recent use—medical res bldg., off-site use only

Bldgs. E3265, E3266

Aberdeen Proving Grounds

Aberdeen Co: Harford MD 21005-

Landholding Agency: Army

Property Number: 21200330137

Status: Unutilized

Comment: 5509/5397 sq. ft., needs rehab, most recent use—lab test bldg., off-site use only

Bldgs. E3269, E3270

Aberdeen Proving Grounds

Aberdeen Co: Harford MD 21005-

Landholding Agency: Army

Property Number: 21200330138

Status: Unutilized

Comment: 200/1200 sq. ft., needs rehab, most recent use—flam. storage, off-site use only

Bldg. E3300

Aberdeen Proving Grounds

Aberdeen Co: Harford MD 21005-

Landholding Agency: Army

Property Number: 21200330139

Status: Unutilized

Comment: 44,352 sq. ft., needs rehab, most recent use—chemistry lab, off-site use only

Bldg. E3320

Aberdeen Proving Grounds

Aberdeen Co: Harford MD 21005-

Landholding Agency: Army

Property Number: 21200330140

Status: Unutilized

Comment: 50,750 sq. ft., needs rehab, most recent use—admin., off-site use only

Bldg. E3322

Aberdeen Proving Grounds

Aberdeen Co: Harford MD 21005-

Landholding Agency: Army

Property Number: 21200330141

Status: Unutilized

Comment: 5906 sq. ft., needs rehab, most recent use—storage, off-site use only

Bldg. E3326

Aberdeen Proving Grounds

Aberdeen Co: Harford MD 21005-

Landholding Agency: Army

Property Number: 21200330142

Status: Unutilized

Comment: 2184 sq. ft., needs rehab, most recent use—admin., off-site use only

5 Bldgs.

Aberdeen Proving Grounds

Aberdeen Co: Harford MD 21005-

Location: E3329, E3334, E3344, E3350, E3370

Landholding Agency: Army

Property Number: 21200330143

Status: Unutilized

Comment: sq. ft. varies, needs rehab, most recent use—lab test bldgs., off-site use only

Bldg. E3335

Aberdeen Proving Grounds

Aberdeen Co: Harford MD 21005-

Landholding Agency: Army

Property Number: 21200330144

Status: Unutilized

Comment: 400 sq. ft., needs rehab, most recent use—storage, off-site use only

Bldgs. E3360, E3362, E3464

Aberdeen Proving Grounds

Aberdeen Co: Harford MD 21005-

Landholding Agency: Army

Property Number: 21200330145

Status: Unutilized

Comment: 3588/236 sq. ft., needs rehab, most recent use—storage, off-site use only

Bldg. E3514

Aberdeen Proving Grounds

Aberdeen Co: Harford MD 21005-

Landholding Agency: Army

Property Number: 21200330146

Status: Unutilized

Comment: 4416 sq. ft., needs rehab, most recent use—admin., off-site use only

Bldgs. E3517, E3525

Aberdeen Proving Grounds

Aberdeen Co: Harford MD 21005-

Landholding Agency: Army

Property Number: 21200330147

Status: Unutilized

Comment: 1001/2175 sq. ft., needs rehab, most recent use—nonmet matl facility, off-site use only

Bldg. E3542

Aberdeen Proving Grounds

Aberdeen Co: Harford MD 21005-

Landholding Agency: Army

Property Number: 21200330148

Status: Unutilized

Comment: 1146 sq. ft., needs rehab, most recent use—lab test bldg., off-site use only

Bldgs. 03554, 03556

Aberdeen Proving Grounds

Aberdeen Co: Harford MD 21005-

Landholding Agency: Army

Property Number: 21200330149

Status: Unutilized

Comment: 18,000/9000 sq. ft., needs rehab, most recent use—storage, off-site use only

Bldgs. E3863, E3864, E4415

Aberdeen Proving Grounds

Aberdeen Co: Harford MD 21005-

Landholding Agency: Army

Property Number: 21200330150

Status: Unutilized

Comment: sq. ft. varies, needs rehab, most recent use—admin., off-site use only

Bldg. E4420

Aberdeen Proving Grounds

Aberdeen Co: Harford MD 21005-

Landholding Agency: Army

Property Number: 21200330151

Status: Unutilized

Comment: 14,997 sq. ft., needs rehab, most recent use—police bldg., off-site use only

Bldg. E4733

Aberdeen Proving Grounds

Aberdeen Co: Harford MD 21005-

Landholding Agency: Army

Property Number: 21200330152

Status: Unutilized

Comment: 2252 sq. ft., needs rehab, most recent use—flammable storage, off-site use only

Bldg. E4734

Aberdeen Proving Grounds

Aberdeen Co: Harford MD 21005-

Landholding Agency: Army

Property Number: 21200330153

Status: Unutilized

Comment: 1114 sq. ft., needs rehab, most recent use—private club, off-site use only

4 Bldgs.

Aberdeen Proving Grounds

Aberdeen Co: Harford MD 21005-

Location: E5005, E5049, E5050, E5051

Landholding Agency: Army

Property Number: 21200330154

Status: Unutilized

Comment: sq. ft. varies, needs rehab, most recent use—storage, off-site use only

Bldg. E5068

Aberdeen Proving Grounds

Aberdeen Co: Harford MD 21005-

Landholding Agency: Army

Property Number: 21200330155

Status: Unutilized

Comment: 1200 sq. ft., needs rehab, most recent use—fire station, off-site use only

4 Bldgs.

Aberdeen Proving Grounds

Aberdeen Co: Harford MD 21005-

Location: E5107, E5181, E5182, E5269

Landholding Agency: Army

Property Number: 21200330156

Status: Unutilized

Comment: sq. ft. varies, needs rehab, most recent use—storage, off-site use only

Bldgs. E5329, E5374

Aberdeen Proving Grounds

Aberdeen Co: Harford MD 21005-

Landholding Agency: Army

Property Number: 21200330157

Status: Unutilized

Comment: 1001/308 sq. ft., needs rehab, most recent use—fuel POL bldg., off-site use only

Bldgs. E5425, 05426

Aberdeen Proving Grounds

Aberdeen Co: Harford MD 21005-

Landholding Agency: Army

Property Number: 21200330158

Status: Unutilized

Comment: 1363/3888 sq. ft., needs rehab, most recent use—storage, off-site use only

Bldg. 05446

Aberdeen Proving Grounds

Aberdeen Co: Harford MD 21005-

Landholding Agency: Army

Property Number: 21200330159

Status: Unutilized

Comment: 1991 sq. ft., needs rehab, most recent use—admin., off-site use only

Bldg. 05447

Aberdeen Proving Grounds

Aberdeen Co: Harford MD 21005-

Landholding Agency: Army

Property Number: 21200330160

Status: Unutilized

Comment: 2464 sq. ft., needs rehab, most recent use—storage, off-site use only

Bldgs. 05448, 05449

Aberdeen Proving Grounds

Aberdeen Co: Harford MD 21005-

Landholding Agency: Army

Property Number: 21200330161

Status: Unutilized

Comment: 6431 sq. ft., needs rehab, most recent use—enlisted UHP, off-site use only

Bldg. 05450

Aberdeen Proving Grounds

Aberdeen Co: Harford MD 21005-

Landholding Agency: Army

Property Number: 21200330162

Status: Unutilized

Comment: 2730 sq. ft., needs rehab, most recent use—admin., off-site use only

Bldgs. 05451, 05455

Aberdeen Proving Grounds

Aberdeen Co: Harford MD 21005-

Landholding Agency: Army

Property Number: 21200330163

Status: Unutilized

Comment: 2730/6431 sq. ft., needs rehab, most recent use—storage, off-site use only

Bldg. 05453

Aberdeen Proving Grounds

Aberdeen Co: Harford MD 21005-

Landholding Agency: Army

Property Number: 21200330164

Status: Unutilized

Comment: 6431 sq. ft., needs rehab, most recent use—admin., off-site use only

Bldgs. 05456, 05459, 05460

Aberdeen Proving Grounds

Aberdeen Co: Harford MD 21005-

Landholding Agency: Army

Property Number: 21200330165

Status: Unutilized

Comment: 6431 sq. ft., needs rehab, most recent use—enlisted bldg., off-site use only

Bldgs. 05457, 05458

Aberdeen Proving Grounds

Aberdeen Co: Harford MD 21005-

Landholding Agency: Army

Property Number: 21200330166

Status: Unutilized

Comment: 2730 sq. ft., needs rehab, most recent use—admin., off-site use only

Bldg. E5609

Aberdeen Proving Grounds

Aberdeen Co: Harford MD 21005-

Landholding Agency: Army

Property Number: 21200330167

Status: Unutilized

Comment: 2053 sq. ft., needs rehab, most recent use—storage, off-site use only

Bldg. E5611

Aberdeen Proving Grounds

Aberdeen Co: Harford MD 21005-

Landholding Agency: Army

Property Number: 21200330168

Status: Unutilized

Comment: 11,242 sq. ft., needs rehab, most recent use—hazard bldg., off-site use only

Bldg. E5634

Aberdeen Proving Grounds

Aberdeen Co: Harford MD 21005-

Landholding Agency: Army

Property Number: 21200330169

Status: Unutilized

Comment: 200 sq. ft., needs rehab, most recent use—flammable storage, off-site use only

Bldgs. E5648, E5697

Aberdeen Proving Grounds

Aberdeen Co: Harford MD 21005-

Landholding Agency: Army

Property Number: 21200330170

Status: Unutilized

Comment: 6802/2595 sq. ft., needs rehab, most recent use—lab test bldg., off-site use only

Bldg. E5654

Aberdeen Proving Grounds

Aberdeen Co: Harford MD 21005-

Landholding Agency: Army

Property Number: 21200330171

Status: Unutilized

Comment: 21,532 sq. ft., needs rehab, most recent use—storage, off-site use only

Bldg. E5779

Aberdeen Proving Grounds

Aberdeen Co: Harford MD 21005-

Landholding Agency: Army

Property Number: 21200330172

Status: Unutilized

Comment: 174 sq. ft., needs rehab, most recent use—wash rack bldg., off-site use only

Bldgs. E5782, E5880

Aberdeen Proving Grounds

Aberdeen Co: Harford MD 21005-

Landholding Agency: Army

Property Number: 21200330173

Status: Unutilized

Comment: 510/1528 sq. ft., needs rehab, most recent use—flammable storage, off-site use only

Bldg. E5854

Aberdeen Proving Grounds

Aberdeen Co: Harford MD 21005-

Landholding Agency: Army

Property Number: 21200330174

Status: Unutilized

Comment: 5166 sq. ft., needs rehab, most recent use—eng/MTN bldg., off-site use only

Bldgs. E5870, E5890

Aberdeen Proving Grounds

Aberdeen Co: Harford MD 21005-

Landholding Agency: Army

Property Number: 21200330175

Status: Unutilized

Comment: 1192/11,279 sq. ft., needs rehab, most recent use—storage, off-site use only

Bldg. E5942

Aberdeen Proving Grounds

Aberdeen Co: Harford MD 21005-

Landholding Agency: Army

Property Number: 21200330176

Status: Unutilized

Comment: 2147 sq. ft., needs rehab, most recent use—igloo storage, off-site use only

Bldgs. E5952, E5953

Aberdeen Proving Grounds

Aberdeen Co: Harford MD 21005-

Landholding Agency: Army

Property Number: 21200330177

Status: Unutilized

Comment: 100/24 sq. ft., needs rehab, most recent use—compressed air bldg., off-site use only

Bldgs. E7401, E7402

Aberdeen Proving Grounds

Aberdeen Co: Harford MD 21005-

Landholding Agency: Army

Property Number: 21200330178

Status: Unutilized

Comment: 256/440 sq. ft., needs rehab, most recent use—storage, off-site use only

Bldgs. E7407, E7408

Aberdeen Proving Grounds

Aberdeen Co: Harford MD 21005-

Landholding Agency: Army

Property Number: 21200330179

Status: Unutilized

Comment: 1078/762 sq. ft., needs rehab, most recent use—decon facility, off-site use only

Bldg. E7500

Aberdeen Proving Grounds

Aberdeen Co: Harford MD 21005-

Landholding Agency: Army

Property Number: 21200330180

Status: Unutilized

Comment: 256 sq. ft., needs rehab, most recent use—changing bldg., off-site use only

Bldgs. E7501, E7502

Aberdeen Proving Grounds

Aberdeen Co: Harford MD 21005-

Landholding Agency: Army

Property Number: 21200330181

Status: Unutilized

Comment: 256/77 sq. ft., needs rehab, most recent use—storage, off-site use only

Bldg. E7931

Aberdeen Proving Grounds

Aberdeen Co: Harford MD 21005-

Landholding Agency: Army

Property Number: 21200330182

Status: Unutilized

Comment: needs rehab, most recent use—sewer treatment, off-site use only

Missouri

Bldg. T2171

Fort Leonard Wood

Ft. Leonard Wood Co: Pulaski MO 65473-5000

Landholding Agency: Army

Property Number: 21199340212

Status: Unutilized

Comment: 1296 sq. ft., 1-story wood frame, most recent use—administrative, no handicap fixtures, lead base paint, off-site use only

Bldg. T1497

Fort Leonard Wood

Ft. Leonard Wood Co: Pulaski MO 65473-5000

Landholding Agency: Army

Property Number: 21199420441

Status: Underutilized

Comment: 4720 sq. ft., 2-story, presence of lead base paint, most recent use—admin/gen. purpose, off-site use only

Bldg. T2139

Fort Leonard Wood

Ft. Leonard Wood Co: Pulaski MO 65473-5000

Landholding Agency: Army

Property Number: 21199420446

Status: Underutilized

Comment: 3663 sq. ft., 1-story, presence of lead base paint, most recent use—admin/gen. purpose, off-site use only

Bldg. T-2191

Fort Leonard Wood

Ft. Leonard Wood Co: Pulaski MO 65473-5000

Landholding Agency: Army

Property Number: 21199440334

Status: Excess

Comment: 4720 sq. ft., 2 story wood frame, off-site removal only, to be vacated 8/95, lead based paint, most recent use—barracks

Bldg. T-2197

Fort Leonard Wood

Ft. Leonard Wood Co: Pulaski MO 65473-5000

Landholding Agency: Army

Property Number: 21199440335

Status: Excess

Comment: 4720 sq. ft., 2 story wood frame, off-site removal only, to be vacated 8/95, lead based paint, most recent use—barracks

Bldg. T2385

Fort Leonard Wood

Ft. Leonard Wood Co: Pulaski MO 65473-

Landholding Agency: Army

Property Number: 21199510115

Status: Excess

Comment: 3158 sq. ft., 1-story, wood frame, most recent use—admin., to be vacated 8/95, off-site use only

Bldg. 1650

Fort Leonard Wood

Ft. Leonard Wood Co: Pulaski MO 65473-5000

Landholding Agency: Army

Property Number: 21199810311

Status: Unutilized

Comment: 1676 sq. ft., presence of asbestos/lead paint, most recent use—union hall, off-site use only

Bldg. 2170

Fort Leonard Wood

Ft. Leonard Wood Co: Pulaski MO 65473-5000

Landholding Agency: Army

Property Number: 21199810313

Status: Unutilized

Comment: 1296 sq. ft., presence of asbestos/lead paint, most recent use—admin., off-site use only

Bldg. 2167

Fort Leonard Wood

Ft. Leonard Wood Co: Pulaski MO 65473-5000

Landholding Agency: Army

Property Number: 21199820179

Status: Unutilized

Comment: 1296 sq. ft., presence of asbestos/lead paint, most recent use—admin., off-site use only

Bldgs. 2169, 2181, 2182, 2183

Fort Leonard Wood

Ft. Leonard Wood Co: Pulaski MO 65473-5000

Landholding Agency: Army

Property Number: 21199820180

Status: Unutilized

Comment: 4720 sq. ft., presence of asbestos/lead paint, most recent use—barracks, off-site use only

Bldg. 2186

Fort Leonard Wood

Ft. Leonard Wood Co: Pulaski MO 65473-5000

Landholding Agency: Army

Property Number: 21199820181

Status: Unutilized

Comment: 1296 sq. ft., presence of asbestos/lead paint, most recent use—admin., off-site use only

Bldg. 2187

Fort Leonard Wood

Ft. Leonard Wood Co: Pulaski MO 65473-5000

Landholding Agency: Army

Property Number: 21199820182

Status: Unutilized

Comment: 2892 sq. ft., presence of asbestos/lead paint, most recent use—dayroom, off-site use only

Bldgs. 2192, 2196, 2198

Fort Leonard Wood

Ft. Leonard Wood Co: Pulaski MO 65473-5000

Landholding Agency: Army

Property Number: 21199820183

Status: Unutilized

Comment: 4720 sq. ft., presence of asbestos/lead paint, most recent use—barracks, off-site use only

Montana

Bldg. 00405

Fort Harrison

Ft. Harrison Co: Lewis/Clark MT 59636-

Landholding Agency: Army

Property Number: 21200130099

Status: Unutilized

Comment: 3467 sq. ft., most recent use—storage, security limitations

Bldg. T0066

Fort Harrison

Ft. Harrison Co: Lewis/Clark MT 59636-

Landholding Agency: Army

Property Number: 21200130100

Status: Unutilized

Comment: 528 sq. ft., needs rehab, presence of asbestos, security limitations

New Jersey

Bldg. 178

Armament R&D Engineering Center

Picatinny Arsenal Co: Morris NJ 07806-5000

Landholding Agency: Army

Property Number: 21199740312

Status: Unutilized

Comment: 2067 sq. ft., most recent use—research, off-site use only

Bldg. 732

Armament R&D Engineering Center

Picatinny Arsenal Co: Morris NJ 07806-5000

Landholding Agency: Army

Property Number: 21199740315

Status: Unutilized

Comment: 9077 sq. ft., needs rehab, most recent use—storage, off-site use only

Bldg. 816C

Armament R, D, & Eng. Center

Picatinny Arsenal Co: Morris NJ 07806-5000

Landholding Agency: Army

Property Number: 21200130103

Status: Unutilized

Comment: 144 sq. ft., most recent use—storage, off-site use only

New Mexico

Bldg. 34198

White Sands Missile Range

Dona Ana Co: NM 88002-

Landholding Agency: Army

Property Number: 21200230062

Status: Excess

Comment: 107 sq. ft., most recent use—security, off-site use only

New York

Bldg. T-181

Fort Drum

Ft. Drum Co: Jefferson NY 13602-

Landholding Agency: Army

Property Number: 21200130129

Status: Unutilized

Comment: 3151 sq. ft., needs rehab, most recent use—housing mnt., off-site use only

Bldg. T-201

Fort Drum

Ft. Drum Co: Jefferson NY 13602-

Landholding Agency: Army

Property Number: 21200130131

Status: Unutilized

Comment: 2305 sq. ft., needs rehab, most recent use—admin., off-site use only

Bldg. T-203

Fort Drum

Ft. Drum Co: Jefferson NY 13602-

Landholding Agency: Army

Property Number: 21200130132

Status: Unutilized

Comment: 2284 sq. ft., needs rehab, most recent use—admin., off-site use only

Bldg. T-252

Fort Drum

Ft. Drum Co: Jefferson NY 13602-

Landholding Agency: Army

Property Number: 21200130133

Status: Unutilized

Comment: 4720 sq. ft., needs rehab, most recent use—housing, off-site use only

Bldgs. T-253, T-256, T-257

Fort Drum

Ft. Drum Co: Jefferson NY 13602-

Landholding Agency: Army

Property Number: 21200130134

Status: Unutilized

Comment: 4720 sq. ft., needs rehab, most recent use—housing, off-site use only

Bldgs. T-271, T-272, T-273

Fort Drum

Ft. Drum Co: Jefferson NY 13602-

Landholding Agency: Army

Property Number: 21200130135

Status: Unutilized

Comment: 4720 sq. ft., needs rehab, most recent use—housing, off-site use only

Bldg. T-274

Fort Drum

Ft. Drum Co: Jefferson NY 13602-

Landholding Agency: Army

Property Number: 21200130136

Status: Unutilized

Comment: 2750 sq. ft., needs rehab, most recent use—BN HQ, off-site use only

Bldgs. T-276, T-277, T-278

Fort Drum

Ft. Drum Co: Jefferson NY 13602-

Landholding Agency: Army

Property Number: 21200130137

Status: Unutilized

Comment: 4720 sq. ft., needs rehab, most recent use—housing, off-site use only

Bldg. T-1030

Fort Drum

Ft. Drum Co: Jefferson NY 13602-

Landholding Agency: Army

Property Number: 21200130139

Status: Unutilized

Comment: 15606 sq. ft., needs rehab, most recent use—simulator bldg., off-site use only

Bldg. P-2159

Fort Drum

Ft. Drum Co: Jefferson NY 13602-

Landholding Agency: Army

Property Number: 21200130140

Status: Unutilized

Comment: 1948 sq. ft., needs rehab, most recent use—waste/water treatment, off-site use only

Bldg. T-2443

Fort Drum

Ft. Drum Co: Jefferson NY 13602-

Landholding Agency: Army

Property Number: 21200130142

Status: Unutilized

Comment: 793 sq. ft., needs rehab, most recent use—vet facility, off-site use only

Bldgs. T-401, T-403

Fort Drum

Ft. Drum Co: Jefferson NY 13602-

Landholding Agency: Army

Property Number: 21200210042

Status: Unutilized

Comment: 2305/2284 sq. ft., needs repair, most recent use—battalion hq bldg., off-site use only

Bldgs. T-404, T-406, T-407

Fort Drum

Ft. Drum Co: Jefferson NY 13602-

Landholding Agency: Army

Property Number: 21200210043

Status: Unutilized

Comment: 2000/1144 sq. ft., needs repair, most recent use—Co Hq Bldg., off-site use only

Bldg. T-430

Fort Drum

Ft. Drum Co: Jefferson NY 13602-

Landholding Agency: Army

Property Number: 21200210044

Status: Unutilized

Comment: 2731 sq. ft., needs repair, most recent use—Co Hq Bldg., off-site use only

4 Bldgs.

Fort Drum

T-431, T-432, T-433, T-434

Ft. Drum Co: Jefferson NY 13602-

Landholding Agency: Army

Property Number: 21200210045

Status: Unutilized

Comment: 1144 sq. ft., needs repair, most recent use—Co Hq Bldg., off-site use only

Bldg. T-435

Fort Drum

Ft. Drum Co: Jefferson NY 13602-

Landholding Agency: Army

Property Number: 21200210046

Status: Unutilized

Comment: 2731 sq. ft., needs repair, most recent use—Co Hq Bldg., off-site use only

Bldgs. T-437, T-438

Fort Drum

Ft. Drum Co: Jefferson NY 13602-

Landholding Agency: Army

Property Number: 21200210047

Status: Unutilized

Comment: 1144 sq. ft., needs repair, most recent use—Co Hq Bldg., off-site use only

Bldgs. T-439, T-460

Fort Drum

Ft. Drum Co: Jefferson NY 13602-

Landholding Agency: Army

Property Number: 21200210048

Status: Unutilized

Comment: 2588/2734 sq. ft., needs repair, most recent use—Co Hq Bldg., off-site use only

4 Bldgs.

Fort Drum

T-461, T-462, T-463, T-464

Ft. Drum Co: Jefferson NY 13602-

Landholding Agency: Army

Property Number: 21200210049

Status: Unutilized

Comment: 1144 sq. ft., needs repair, most recent use—Co Hq Bldg., off-site use only

Bldg. T-465

Fort Drum

Ft. Drum Co: Jefferson NY 13602-

Landholding Agency: Army

Property Number: 21200210050

Status: Unutilized

Comment: 2734 sq. ft., needs repair, most recent use—Co Hq Bldg., off-site use only

Bldgs. T-405, T-408

Fort Drum

Ft. Drum Co: Jefferson NY 13602-

Landholding Agency: Army

Property Number: 21200210051

Status: Unutilized

Comment: 1296 sq. ft., needs repair, most recent use—storage, off-site use only

6 Bldgs.

Fort Drum

T-410, T-411, T-412, T-416, T-417, T-418

Ft. Drum Co: Jefferson NY 13602-

Landholding Agency: Army

Property Number: 21200210052

Status: Unutilized

Comment: 4720 sq. ft., needs repair, most recent use—enlisted barracks AN TR, off-site use only

Bldgs. T-421, T-422

Fort Drum

Ft. Drum Co: Jefferson NY 13602-

Landholding Agency: Army

Property Number: 21200210053

Status: Unutilized

Comment: 2510 sq. ft., needs repair, most recent use—enlisted barracks AN TR, off-site use only

Bldgs. T-423, T-424

Fort Drum

Ft. Drum Co: Jefferson NY 13602-

Landholding Agency: Army

Property Number: 21200210054

Status: Unutilized

Comment: 4720 sq. ft., needs repair, most recent use—enlisted barracks AN TR, off-site use only

7 Bldgs.

Fort Drum

T-441, T-442, T-443, T-444, T-446-T-448

Ft. Drum Co: Jefferson NY 13602-

Landholding Agency: Army

Property Number: 21200210055

Status: Unutilized

Comment: 4720 sq. ft., needs repair, most recent use—enlisted barracks AN TR, off-site use only

6 Bldgs.

Fort Drum

T-451, T-452, T-453, T-454, T-456, T-458

Ft. Drum Co: Jefferson NY 13602-

Landholding Agency: Army

Property Number: 21200210056

Status: Unutilized

Comment: 4720 sq. ft., needs repair, most recent use—enlisted barracks AN TR, off-site use only

5 Bldgs.

Fort Drum

T-471, T-472, T-473, T-474, T-477

Ft. Drum Co: Jefferson NY 13602-

Landholding Agency: Army

Property Number: 21200210057

Status: Unutilized

Comment: 4720 sq. ft., needs repair, most recent use—enlisted barracks AN TR, off-site use only

Bldgs. T-420, T-445, T-470

Fort Drum

Ft. Drum Co: Jefferson NY 13602-

Landholding Agency: Army

Property Number: 21200210058

Status: Unutilized

Comment: 2510 sq. ft., needs repair, most recent use—dining facility, off-site use only

Bldgs. T-440, T-450

Fort Drum

Ft. Drum Co: Jefferson NY 13602-

Landholding Agency: Army

Property Number: 21200210059

Status: Unutilized

Comment: 2360 sq. ft., needs repair, most recent use—dining facility, off-site use only

Bldg. T-478

Fort Drum

Ft. Drum Co: Jefferson NY 13602-

Landholding Agency: Army

Property Number: 21200210060

Status: Unutilized

Comment: 4720 sq. ft., needs repair, most recent use—classroom, off-site use only

5 Bldgs.

Orangeburg USARC

#206, 207, 208, 218, 223

Orangeburg Co: Rockland NY 10962-2209

Landholding Agency: Army

Property Number: 21200310061

Status: Unutilized

Comment: various sq. ft., need major repairs, presence of lead paint, most recent use—admin/storage, off-site use only

North Carolina

Bldg. C5536

Fort Bragg

Ft. Bragg Co: Cumberland NC 28310-5000

Landholding Agency: Army

Property Number: 21200130150

Status: Unutilized

Comment: 600 sq. ft., single wide trailer w/metal storage shed, needs major repair, presence of asbestos/lead paint, off-site use only

Oklahoma

Bldg. T-838

Fort Sill

838 Macomb Road

Lawton Co: Comanche OK 73503-5100

Landholding Agency: Army

Property Number: 21199220609

Status: Unutilized

Comment: 151 sq. ft., wood frame, 1 story, off-site removal only, most recent use—vet facility (quarantine stable).

Bldg. T-954

Fort Sill

954 Quinette Road

Lawton Co: Comanche OK 73503-5100

Landholding Agency: Army

Property Number: 21199240659

Status: Unutilized

Comment: 3571 sq. ft., 1 story wood frame, needs rehab, off-site use only, most recent use—motor repair shop.

Bldg. T-3325

Fort Sill

3325 Naylor Road

Lawton Co: Comanche OK 73503-5100

Landholding Agency: Army

Property Number: 21199240681

Status: Unutilized

Comment: 8832 sq. ft., 1 story wood frame, needs rehab, off-site use only, most recent use—warehouse.

Bldg. T1652

Fort Sill

Lawton Co: Comanche OK 73503-5100

Landholding Agency: Army

Property Number: 21199330380

Status: Unutilized

Comment: 1505 sq. ft., 1-story wood, possible asbestos, most recent use—storage, off-site use only

Bldg. T-4226

Fort Sill

Lawton Co: Comanche OK 73503-

Landholding Agency: Army

Property Number: 21199440384

Status: Unutilized

Comment: 114 sq. ft., 1-story wood frame, possible asbestos and lead paint, most recent use—storage, off-site use only

Bldg. P-1015

Fort Sill

Lawton Co: Comanche OK 73501-5100

Landholding Agency: Army

Property Number: 21199520197

Status: Unutilized

Comment: 15402 sq. ft., 1-story, most recent use—storage, off-site use only

Bldg. P-366

Fort Sill

Lawton Co: Comanche OK 73503-

Landholding Agency: Army

Property Number: 21199610740

Status: Unutilized

Comment: 482 sq. ft., possible asbestos, most recent use—storage, off-site use only

Building T-2952

Fort Sill

Lawton Co: Comanche OK 73503-5100

Landholding Agency: Army

Property Number: 21199710047

Status: Unutilized

Comment: 4,327 sq. ft., possible asbestos and leadpaint, most recent use—motor repair shop, off-site use only

Building P-5042

Fort Sill

Lawton Co: Comanche OK 73503-5100

Landholding Agency: Army

Property Number: 21199710066

Status: Unutilized

Comment: 119 sq. ft., possible asbestos and leadpaint, most recent use—heatplant, off-site use only

4 Buildings

Fort Sill

Lawton Co: Comanche OK 73503-5100

Location: T-6465, T-6466, T-6467, T-6468

Landholding Agency: Army

Property Number: 21199710086

Status: Unutilized

Comment: various sq. ft., possible asbestos and leadpaint, most recent use—range support, off site use only

Bldg. T-810

Fort Sill

Lawton Co: Comanche OK 73503-5100

Landholding Agency: Army

Property Number: 21199730350

Status: Unutilized

Comment: 7205 sq. ft., possible asbestos/lead paint, most recent use—hay storage, off-site use only

Bldgs. T-837, T-839

Fort Sill

Lawton Co: Comanche OK 73503-5100

Landholding Agency: Army

Property Number: 21199730351

Status: Unutilized

Comment: approx. 100 sq. ft. each, possible asbestos/lead paint, most recent use—storage, off-site use only

Bldg. P-934

Fort Sill

Lawton Co: Comanche OK 73503-5100

Landholding Agency: Army

Property Number: 21199730353

Status: Unutilized

Comment: 402 sq. ft., possible asbestos/lead paint, most recent use—storage, off-site use only

Bldg. T-1177

Fort Sill

Lawton Co: Comanche OK 73503-5100

Landholding Agency: Army

Property Number: 21199730356

Status: Unutilized

Comment: 183 sq. ft., possible asbestos/lead paint, most recent use—snack bar, off-site use only

Bldgs. T-1468, T-1469

Fort Sill

Lawton Co: Comanche OK 73503-5100

Landholding Agency: Army

Property Number: 21199730357

Status: Unutilized

Comment: 114 sq. ft., possible asbestos/lead paint, most recent use—storage, off-site use only

Bldg. T-1470

Fort Sill

Lawton Co: Comanche OK 73503-5100

Landholding Agency: Army

Property Number: 21199730358

Status: Unutilized

Comment: 3120 sq. ft., possible asbestos/lead paint, most recent use—storage, off-site use only

Bldg. T-1940

Fort Sill

Lawton Co: Comanche OK 73503-5100

Landholding Agency: Army

Property Number: 21199730360

Status: Unutilized

Comment: 1400 sq. ft., possible asbestos/lead paint, most recent use—storage, off-site use only

Bldgs. T-1954, T-2022

Fort Sill

Lawton Co: Comanche OK 73503-5100

Landholding Agency: Army

Property Number: 21199730362

Status: Unutilized

Comment: approx. 100 sq. ft. each, possible asbestos/lead paint, most recent use—storage, off-site use only

Bldg. T-2184

Fort Sill

Lawton Co: Comanche OK 73503-5100

Landholding Agency: Army

Property Number: 21199730364

Status: Unutilized

Comment: 454 sq. ft., possible asbestos/lead paint, most recent use—storage, off-site use only

Bldgs. T-2186, T-2188, T-2189

Fort Sill

Lawton Co: Comanche OK 73503-5100

Landholding Agency: Army

Property Number: 21199730366

Status: Unutilized

Comment: 1656-3583 sq. ft., possible asbestos/lead paint, most recent use—vehicle maint. shop, off-site use only

Bldg. T-2187

Fort Sill

Lawton Co: Comanche OK 73503-5100

Landholding Agency: Army

Property Number: 21199730367

Status: Unutilized

Comment: 1673 sq. ft., possible asbestos/lead paint, most recent use—storage, off-site use only

Bldgs. T-2291 thru T-2296

Fort Sill

Lawton Co: Comanche OK 73503-5100

Landholding Agency: Army

Property Number: 21199730372

Status: Unutilized

Comment: 400 sq. ft. each, possible asbestos/lead paint, most recent use—storage, off-site use only

Bldgs. T-3001, T-3006

Fort Sill

Lawton Co: Comanche OK 73503-5100

Landholding Agency: Army

Property Number: 21199730383

Status: Unutilized

Comment: approx. 9300 sq. ft., possible asbestos/lead paint, most recent use—storage, off-site use only

Bldg. T-3314

Fort Sill

Lawton Co: Comanche OK 73503-5100

Landholding Agency: Army

Property Number: 21199730385

Status: Unutilized

Comment: 229 sq. ft., possible asbestos/lead paint, most recent use—office, off-site use only

Bldgs. T-4401, T-4402

Fort Sill

Lawton Co: Comanche OK 73503-5100

Landholding Agency: Army

Property Number: 21199730393

Status: Unutilized

Comment: 2260 sq. ft., possible asbestos/lead paint, most recent use—office, off-site use only

Bldg. T-5041

Fort Sill

Lawton Co: Comanche OK 73503-5100

Landholding Agency: Army

Property Number: 21199730409

Status: Unutilized

Comment: 763 sq. ft., possible asbestos/lead paint, most recent use—storage, off-site use only

Bldg. T-5420

Fort Sill

Lawton Co: Comanche OK 73503-5100

Landholding Agency: Army

Property Number: 21199730414

Status: Unutilized

Comment: 189 sq. ft., possible asbestos/lead paint, most recent use—fuel storage, off-site use only

Bldg. T-7775

Fort Sill

Lawton Co: Comanche OK 73503-5100

Landholding Agency: Army

Property Number: 21199730419

Status: Unutilized

Comment: 1452 sq. ft., possible asbestos/lead paint, most recent use—private club, off-site use only

4 Bldgs.

Fort Sill

P-617, P-1114, P-1386, P-1608

Lawton Co: Comanche OK 73503-5100

Landholding Agency: Army

Property Number: 21199910133

Status: Unutilized

Comment: 106 sq. ft., possible asbestos/lead paint, most recent use—utility plant, off-site use only

Bldg. P-746

Fort Sill

Lawton Co: Comanche OK 73503-5100

Landholding Agency: Army

Property Number: 21199910135

Status: Unutilized

Comment: 6299 sq. ft., possible asbestos/lead paint, most recent use—admin., off-site use only

Bldgs. P-2581, P-2773

Fort Sill

Lawton Co: Comanche OK 73503-5100

Landholding Agency: Army

Property Number: 21199910140

Status: Unutilized

Comment: 4093 and 4129 sq. ft., possible asbestos/lead paint, most recent use—office, off-site use only

Bldg. P-2582

Fort Sill

Lawton Co: Comanche OK 73503-5100

Landholding Agency: Army

Property Number: 21199910141

Status: Unutilized

Comment: 3672 sq. ft., possible asbestos/lead paint, most recent use—admin., off-site use only

Bldgs. P-2912, P-2921, P-2944

Fort Sill

Lawton Co: Comanche OK 73503-5100

Landholding Agency: Army

Property Number: 21199910144

Status: Unutilized

Comment: 1390 sq. ft., possible asbestos/lead paint, most recent use—office, off-site use only

Bldg. P-2914

Fort Sill

Lawton Co: Comanche OK 73503-5100

Landholding Agency: Army

Property Number: 21199910146

Status: Unutilized

Comment: 1236 sq. ft., possible asbestos/lead paint, most recent use—storage, off-site use only

Bldg. P-5101

Fort Sill

Lawton Co: Comanche OK 73503-5100

Landholding Agency: Army

Property Number: 21199910153

Status: Unutilized

Comment: 82 sq. ft., possible asbestos/lead paint, most recent use—gas station, off-site use only

Bldg. S-6430

Fort Sill

Lawton Co: Comanche OK 73503-5100

Landholding Agency: Army

Property Number: 21199910156

Status: Unutilized

Comment: 2080 sq. ft., possible asbestos/lead paint, most recent use—range support, off-site use only

Bldg. T-6461

Fort Sill

Lawton Co: Comanche OK 73503-5100

Landholding Agency: Army

Property Number: 21199910157

Status: Unutilized

Comment: 200 sq. ft., possible asbestos/lead paint, most recent use—range support, off-site use only

Bldg. T-6462

Fort Sill

Lawton Co: Comanche OK 73503-5100

Landholding Agency: Army

Property Number: 21199910158

Status: Unutilized

Comment: 64 sq. ft., possible asbestos/lead paint, most recent use—control tower, off-site use only

Bldg. P-7230

Fort Sill

Lawton Co: Comanche OK 73503-5100

Landholding Agency: Army

Property Number: 21199910159

Status: Unutilized

Comment: 160 sq. ft., possible asbestos/lead paint, most recent use—transmitter bldg., off-site use only

Bldg. S-4023

Fort Sill

Lawton Co: Comanche OK 73503-5100

Landholding Agency: Army

Property Number: 21200010128

Status: Unutilized

Comment: 1200 sq. ft., possible asbestos/lead paint, most recent use—storage, off-site use only

Bldg. P-747

Fort Sill

Lawton Co: Comanche OK 73503-5100

Landholding Agency: Army

Property Number: 21200120120

Status: Unutilized

Comment: 9232 sq. ft., possible asbestos/lead paint, most recent use—lab, off-site use only

Bldg. P-842

Fort Sill

Lawton Co: Comanche OK 73503-5100

Landholding Agency: Army

Property Number: 21200120123

Status: Unutilized

Comment: 192 sq. ft., possible asbestos/lead paint, most recent use—storage, off-site use only

Bldg. T-911

Fort Sill

Lawton Co: Comanche OK 73503-5100

Landholding Agency: Army

Property Number: 21200120124

Status: Unutilized

Comment: 3080 sq. ft., possible asbestos/lead paint, most recent use—office, off-site use only

Bldg. P-1672

Fort Sill

Lawton Co: Comanche OK 73503-5100

Landholding Agency: Army

Property Number: 21200120126

Status: Unutilized

Comment: 1056 sq. ft., possible asbestos/lead paint, most recent use—storage, off-site use only

Bldg. S-2362

Fort Sill

Lawton Co: Comanche OK 73503-5100

Landholding Agency: Army

Property Number: 21200120127

Status: Unutilized

Comment: 64 sq. ft., possible asbestos/lead paint, most recent use—gatehouse, off-site use only

Bldg. P-2589

Fort Sill

Lawton Co: Comanche OK 73503-5100

Landholding Agency: Army

Property Number: 21200120129

Status: Unutilized

Comment: 3672 sq. ft., possible asbestos/lead paint, most recent use—storage, off-site use only

Bldg. T-3043

Fort Sill

Lawton Co: Comanche OK 73503-5100

Landholding Agency: Army

Property Number: 21200120130

Status: Unutilized

Comment: 80 sq. ft., possible asbestos/lead paint, most recent use—guard shack, off-site use only

South Carolina

Bldg. 3499

Fort Jackson

Ft. Jackson Co: Richland SC 29207-

Landholding Agency: Army

Property Number: 21199730310

Status: Unutilized

Comment: 3724 sq. ft., needs repair, most recent use—admin.

Bldg. 2441

Fort Jackson

Ft. Jackson Co: Richland SC 29207-

Landholding Agency: Army

Property Number: 21199820187

Status: Unutilized

Comment: 2160 sq. ft., needs repair, most recent use—admin.

Bldg. 3605

Fort Jackson

Ft. Jackson Co: Richland SC 29207-

Landholding Agency: Army

Property Number: 21199820188

Status: Unutilized

Comment: 711 sq. ft., needs repair, most recent use—storage

Bldg. 1765

Fort Jackson

Ft. Jackson Co: Richland SC 29207-

Landholding Agency: Army

Property Number: 21200030109

Status: Unutilized

Comment: 1700 sq. ft., need repairs, presence of asbestos/lead paint, most recent use—training bldg., off-site use only

Texas

Bldg. 7137, Fort Bliss

El Paso Co: El Paso TX 79916-

Landholding Agency: Army

Property Number: 21199640564

Status: Unutilized

Comment: 35,736 sq. ft., 3-story, most recent use—housing, off-site use only

Bldg. 919

Fort Hood

Ft. Hood Co: Coryell TX 76544-

Landholding Agency: Army

Property Number: 21199920212

Status: Unutilized

Comment: 11,800 sq. ft., needs repair, most recent use—Bde. Hq. Bldg., off-site use only

Bldg. 92043

Fort Hood

Ft. Hood Co: Bell TX 76544-

Landholding Agency: Army

Property Number: 21200020206

Status: Unutilized

Comment: 450 sq. ft., most recent use—storage, off-site use only

Bldg. 92044

Fort Hood

Ft. Hood Co: Bell TX 76544-

Landholding Agency: Army

Property Number: 21200020207

Status: Unutilized

Comment: 1920 sq. ft., most recent use—admin., off-site use only

Bldg. 92045

Fort Hood

Ft. Hood Co: Bell TX 76544-

Landholding Agency: Army

Property Number: 21200020208

Status: Unutilized

Comment: 2108 sq. ft., most recent use—maint., off-site use only

Bldg. 1281

Fort Bliss

El Paso Co: TX 79916-

Landholding Agency: Army

Property Number: 21200110091

Status: Unutilized

Comment: 25,027 sq. ft., most recent use—cold storage, off-site use only

Bldg. 7133

Fort Bliss

El Paso Co: TX 79916-

Landholding Agency: Army

Property Number: 21200110095

Status: Unutilized

Comment: 11,650 sq. ft., most recent use—storage, off-site use only

Bldg. 7136

Fort Bliss

El Paso Co: TX 79916-

Landholding Agency: Army

Property Number: 21200110096

Status: Unutilized

Comment: 11,755 sq. ft., most recent use—vet facility, off-site use only

Bldg. 7146

Fort Bliss

El Paso Co: TX 79916-

Landholding Agency: Army

Property Number: 21200110097

Status: Unutilized

Comment: most recent use—oil storage, off-site use only

Bldg. 7147

Fort Bliss

El Paso Co: TX 79916-

Landholding Agency: Army

Property Number: 21200110098

Status: Unutilized

Comment: most recent use—oil storage, off-site use only

Bldg. 7153

Fort Bliss

El Paso Co: TX 79916-

Landholding Agency: Army

Property Number: 21200110099

Status: Unutilized

Comment: 11,924 sq. ft., most recent use—bowling center, off-site use only

Bldg. 7162

Fort Bliss

El Paso Co: TX 79916-

Landholding Agency: Army

Property Number: 21200110100

Status: Unutilized

Comment: 3956 sq. ft., most recent use—development center, off-site use only

Bldg. 11116

Fort Bliss

El Paso Co: TX 79916-

Landholding Agency: Army

Property Number: 21200110101

Status: Unutilized

Comment: 20,100 sq. ft., most recent use—storage, off-site use only

Bldg. 7113

Fort Bliss

El Paso Co: TX 79916-

Landholding Agency: Army

Property Number: 21200220132

Status: Unutilized

Comment: 8855 sq. ft., presence of asbestos/lead paint, most recent use—child development center, off-site use only

Bldg. T5900

Camp Bullis

San Antonio Co: Bexar TX 78257-

Landholding Agency: Army

Property Number: 21200220133

Status: Excess

Comment: 9876 sq. ft., possible lead paint, most recent use—theater/training bldg., off-site use only

Bldgs. 107, 108

Fort Hood

Ft. Hood Co: Bell TX 76544-

Landholding Agency: Army

Property Number: 21200220136

Status: Unutilized

Comment: 13,319 & 28,051 sq. ft., most recent use—admin., off-site use only

Bldg. 120

Fort Hood

Ft. Hood Co: Bell TX 76544-

Landholding Agency: Army

Property Number: 21200220137

Status: Unutilized

Comment: 1450 sq. ft., most recent use—dental clinic, off-site use only

Bldg. 134

Fort Hood

Ft. Hood Co: Bell TX 76544-

Landholding Agency: Army

Property Number: 21200220138

Status: Unutilized

Comment: 16,114 sq. ft., most recent use—auditorium, off-site use only

Bldg. 56305

Fort Hood

Ft. Hood Co: Bell TX 76544-

Landholding Agency: Army

Property Number: 21200220143

Status: Unutilized

Comment: 2160 sq. ft., most recent use—admin., off-site use only

Bldg. 56402

Fort Hood

Ft. Hood Co: Bell TX 76544-

Landholding Agency: Army

Property Number: 21200220144

Status: Unutilized

Comment: 2680 sq. ft., most recent use—recreation center, off-site use only

Bldgs. 56403, 56405

Fort Hood

Ft. Hood Co: Bell TX 76544-

Landholding Agency: Army

Property Number: 21200220145

Status: Unutilized

Comment: 480 sq. ft., most recent use—shower, off-site use only

Bldgs. 56620, 56621

Fort Hood

Ft. Hood Co: Bell TX 76544-

Landholding Agency: Army

Property Number: 21200220146

Status: Unutilized

Comment: 1120 sq. ft., most recent use—shower, off-site use only

Bldgs. 56626, 56627

Fort Hood

Ft. Hood Co: Bell TX 76544-

Landholding Agency: Army

Property Number: 21200220147

Status: Unutilized

Comment: 1120 sq. ft., most recent use—shower, off-site use only

Bldg. 56628

Fort Hood

Ft. Hood Co: Bell TX 76544-

Landholding Agency: Army

Property Number: 21200220148

Status: Unutilized

Comment: 1133 sq. ft., most recent use—shower, off-site use only

Bldgs. 56630, 56631

Fort Hood

Ft. Hood Co: Bell TX 76544-

Landholding Agency: Army

Property Number: 21200220149

Status: Unutilized

Comment: 1120 sq. ft., most recent use—shower, off-site use only

Bldgs. 56636, 56637

Fort Hood

Ft. Hood Co: Bell TX 76544-

Landholding Agency: Army

Property Number: 21200220150

Status: Unutilized

Comment: 1120 sq. ft., most recent use—shower, off-site use only

Bldg. 56638

Fort Hood

Ft. Hood Co: Bell TX 76544-

Landholding Agency: Army

Property Number: 21200220151

Status: Unutilized

Comment: 1133 sq. ft., most recent use—shower, off-site use only

Bldgs. 56703, 56708

Fort Hood

Ft. Hood Co: Bell TX 76544-

Landholding Agency: Army

Property Number: 21200220152

Status: Unutilized

Comment: 1306 sq. ft., most recent use—shower, off-site use only

Bldgs. 56750, 56751

Fort Hood

Ft. Hood Co: Bell TX 76544-

Landholding Agency: Army

Property Number: 21200220153

Status: Unutilized

Comment: 1120 sq. ft., most recent use—shower, off-site use only

Bldg. 56758

Fort Hood

Ft. Hood Co: Bell TX 76544-

Landholding Agency: Army

Property Number: 21200220154

Status: Unutilized

Comment: 1133 sq. ft., most recent use—shower, off-site use only

Bldg. P6202

Fort Sam Houston

San Antonio Co: Bexar TX 78234-

Landholding Agency: Army

Property Number: 21200220156

Status: Excess

Comment: 1479 sq. ft., presence of asbestos/lead paint, provider responsible for hazard abatement, most recent use—officer's family quarters, off-site use only

Bldg. P6203

Fort Sam Houston

San Antonio Co: Bexar TX 78234-

Landholding Agency: Army

Property Number: 21200220157

Status: Excess

Comment: 1381 sq. ft., presence of asbestos/lead paint, provider responsible for hazard abatement, most recent use—military family quarters, off-site use only

Bldg. P6204

Fort Sam Houston

San Antonio Co: Bexar TX 78234-

Landholding Agency: Army

Property Number: 21200220158

Status: Excess

Comment: 1454 sq. ft., presence of asbestos/lead paint, provider responsible for hazard abatement, most recent use—military family quarters, off-site use only

Bldgs. P6220, P6222

Fort Sam Houston

Camp Bullis

San Antonio Co: Bexar TX

Landholding Agency: Army

Property Number: 21200330197

Status: Unutilized

Comment: 384 sq. ft., most recent use—carport/storage, off-site use only

Bldgs. P6224, P6226

Fort Sam Houston

Camp Bullis

San Antonio Co: Bexar TX

Landholding Agency: Army

Property Number: 21200330198

Status: Unutilized

Comment: 384 sq. ft., most recent use—carport/storage, off-site use only

Virginia

Bldg. T246

Fort Monroe

Ft. Monroe Co: VA 23651-

Landholding Agency: Army

Property Number: 21199940047

Status: Unutilized

Comment: 756 sq. ft., needs repair, possible lead paint, most recent use—scout meetings, off-site use only

Bldgs. 1516, 1517, 1552, 1567

Fort Eustis

Ft. Eustis Co: VA 23604-

Landholding Agency: Army

Property Number: 21200130154

Status: Unutilized

Comment: 2892 & 4720 sq. ft., most recent use—dining/barracks/admin, off-site use only

Bldg. 1559

Fort Eustis

Ft. Eustis Co: VA 23604-

Landholding Agency: Army

Property Number: 21200130156

Status: Unutilized

Comment: 2892 sq. ft., most recent use—storage, off-site use only

Bldg. T0058

Fort Monroe

Stillwell Dr.

Ft. Monroe Co: VA

Landholding Agency: Army

Property Number: 21200310057

Status: Excess

Comment: 7875 sq. ft., presence of asbestos/lead paint, most recent use—housing, off-site use only

Bldg. 18

Defense Supply Center

Richmond Co: Chesterfield VA 23875-

Landholding Agency: Army

Property Number: 21200320174

Status: Unutilized

Comment: 6962 sq. ft., most recent use—office/warehouse, off-site use only

Bldg. T-707

Fort Eustis

Ft. Eustis Co: VA 23604-

Landholding Agency: Army

Property Number: 21200330199

Status: Unutilized

Comment: 3763 sq. ft., most recent use—chapel, off-site use only

Washington

Bldg. CO909, Fort Lewis

Ft. Lewis Co: Pierce WA 98433-9500

Landholding Agency: Army

Property Number: 21199630205

Status: Unutilized

Comment: 1984 sq. ft., possible asbestos/lead paint, most recent use—admin., off-site use only

Bldg. 1164, Fort Lewis

Ft. Lewis Co: Pierce WA 98433-9500

Landholding Agency: Army

Property Number: 21199630213

Status: Unutilized

Comment: 230 sq. ft., possible asbestos/lead paint, most recent use—storehouse, off-site use only

Bldg. 1307, Fort Lewis

Ft. Lewis Co: Pierce WA 98433-9500

Landholding Agency: Army

Property Number: 21199630216

Status: Unutilized

Comment: 1092 sq. ft., possible asbestos/lead paint, most recent use—storage, off-site use only

Bldg. 1309, Fort Lewis

Ft. Lewis Co: Pierce WA 98433-9500

Landholding Agency: Army

Property Number: 21199630217

Status: Unutilized

Comment: 1092 sq. ft., possible asbestos/lead paint, most recent use—storage, off-site use only

Bldg. 2167, Fort Lewis

Ft. Lewis Co: Pierce WA 98433-9500

Landholding Agency: Army

Property Number: 21199630218

Status: Unutilized

Comment: 288 sq. ft., possible asbestos/lead paint, most recent use—warehouse, off-site use only

Bldg. 4078, Fort Lewis

Ft. Lewis Co: Pierce WA 98433-9500

Landholding Agency: Army

Property Number: 21199630219

Status: Unutilized

Comment: 10200 sq. ft., needs rehab, possible asbestos/lead paint, most recent use—warehouse, off-site use only

Bldg. 9599, Fort Lewis

Ft. Lewis Co: Pierce WA 98433-9500

Landholding Agency: Army

Property Number: 21199630220

Status: Unutilized

Comment: 12366 sq. ft., possible asbestos/lead paint, most recent use—warehouse, off-site use only

Bldg. A1404, Fort Lewis

Ft. Lewis Co: Pierce WA 98433-

Landholding Agency: Army

Property Number: 21199640570

Status: Unutilized

Comment: 557 sq. ft., needs rehab, most recent use—storage, off-site use only

Bldg. A1419, Fort Lewis

Ft. Lewis Co: Pierce WA 98433-

Landholding Agency: Army

Property Number: 21199640571

Status: Unutilized

Comment: 1307 sq. ft., needs rehab, most recent use—storage, off-site use only

Bldg. EO347

Fort Lewis

Ft. Lewis Co: Pierce WA 98433-

Landholding Agency: Army

Property Number: 21199710156

Status: Unutilized

Comment: 1800 sq. ft., possible asbestos/lead paint, most recent use—office, off-site use only

Bldg. B1008, Fort Lewis

Ft. Lewis Co: Pierce WA 98433-

Landholding Agency: Army

Property Number: 21199720216

Status: Unutilized

Comment: 7387 sq. ft., 2-story, needs rehab, possible asbestos/lead paint, most recent use—medical clinic, off-site use only

Bldgs. B1011-B1012, Fort Lewis

Ft. Lewis Co: Pierce WA 98433-

Landholding Agency: Army

Property Number: 21199720217

Status: Unutilized

Comment: 992 sq. ft. and 1144 sq. ft., needs rehab, possible asbestos/lead paint, most recent use—office, off-site use only

Bldgs. CO509, CO709, CO720

Fort Lewis

Ft. Lewis Co: Pierce WA 98433-

Landholding Agency: Army

Property Number: 21199810372

Status: Unutilized

Comment: 1984 sq. ft., possible asbestos/lead paint, needs rehab, most recent use—storage, off-site use only

Bldg. 5162

Fort Lewis

Ft. Lewis Co: Pierce WA 98433-

Landholding Agency: Army

Property Number: 21199830419

Status: Unutilized

Comment: 2360 sq. ft., needs repair, presence of asbestos/lead paint, most recent use—office, off-site use only

Bldg. 5224

Fort Lewis

Ft. Lewis Co: Pierce WA 98433-

Landholding Agency: Army

Property Number: 21199830433

Status: Unutilized

Comment: 2360 sq. ft., needs repair, presence of asbestos/lead paint, most recent use—educ. fac., off-site use only

Bldg. U001B

Fort Lewis

Ft. Lewis Co: Pierce WA 98433-

Landholding Agency: Army

Property Number: 21199920237

Status: Excess

Comment: 54 sq. ft., needs repair, presence of asbestos/lead paint, most recent use—control tower, off-site use only

Bldg. U001C

Fort Lewis

Ft. Lewis Co: Pierce WA 98433-

Landholding Agency: Army

Property Number: 21199920238

Status: Unutilized

Comment: 960 sq. ft., needs repair, presence of asbestos/lead paint, most recent use—supply, off-site use only

10 Bldgs.

Fort Lewis

Ft. Lewis Co: Pierce WA 98433-

Location: U002B, U002C, U005C, U015I, U016E, U019C, U022A, U028B, 0091A, U093C

Landholding Agency: Army

Property Number: 21199920239

Status: Excess

Comment: 600 sq. ft., needs repair, presence of asbestos/lead paint, most recent use—range house, off-site use only

6 Bldgs.

Fort Lewis

Ft. Lewis Co: Pierce WA 98433-

Location: U003A, U004B, U006C, U015B, U016B, U019B

Landholding Agency: Army

Property Number: 21199920240

Status: Unutilized

Comment: 54 sq. ft., needs repair, presence of asbestos/lead paint, most recent use—control tower, off-site use only

Bldg. U004D

Fort Lewis

Ft. Lewis Co: Pierce WA 98433-

Landholding Agency: Army

Property Number: 21199920241

Status: Unutilized

Comment: 960 sq. ft., needs repair, presence of asbestos/lead paint, most recent use—supply, off-site use only

Bldg. U005A

Fort Lewis

Ft. Lewis Co: Pierce WA 98433-

Landholding Agency: Army

Property Number: 21199920242

Status: Unutilized

Comment: 360 sq. ft., needs repair, presence of asbestos/lead paint, most recent use—control tower, off-site use only

7 Bldgs.

Fort Lewis

Ft. Lewis Co: Pierce WA 98433-

Location: U014A, U022B, U023A, U043B, U059B, U060A, U101A

Landholding Agency: Army

Property Number: 21199920245

Status: Excess

Comment: needs repair, presence of asbestos/lead paint, most recent use—ofc/tower/support, off-site use only

Bldg. U015J

Fort Lewis

Ft. Lewis Co: Pierce WA 98433-

Landholding Agency: Army

Property Number: 21199920246

Status: Excess

Comment: 144 sq. ft., needs repair, presence of asbestos/lead paint, most recent use—tower, off-site use only

Bldg. U018B

Fort Lewis

Ft. Lewis Co: Pierce WA 98433-

Landholding Agency: Army

Property Number: 21199920247

Status: Unutilized

Comment: 121 sq. ft., needs repair, presence of asbestos/lead paint, most recent use—range house, off-site use only

Bldg. U018C

Fort Lewis

Ft. Lewis Co: Pierce WA 98433-

Landholding Agency: Army

Property Number: 21199920248

Status: Unutilized

Comment: 48 sq. ft., needs repair, presence of asbestos/lead paint, off-site use only

Bldg. U024D

Fort Lewis

Ft. Lewis Co: Pierce WA 98433-

Landholding Agency: Army

Property Number: 21199920250

Status: Unutilized

Comment: 120 sq. ft., needs repair, presence of asbestos/lead paint, most recent use—ammo bldg., off-site use only

Bldg. U027A

Fort Lewis

Ft. Lewis Co: Pierce WA

Landholding Agency: Army

Property Number: 21199920251

Status: Excess

Comment: 64 sq. ft., needs repair, presence of asbestos/lead paint, most recent use—tire house, off-site use only

Bldg. U031A

Fort Lewis

Ft. Lewis Co: Pierce WA 98433-

Landholding Agency: Army

Property Number: 21199920253

Status: Excess

Comment: 3456 sq. ft., needs repair, presence of asbestos/lead paint, most recent use—line shed, off-site use only

Bldg. U031C

Fort Lewis

Ft. Lewis Co: Pierce WA 98433-

Landholding Agency: Army

Property Number: 21199920254

Status: Unutilized

Comment: 32 sq. ft., needs repair, presence of asbestos/lead paint, off-site use only

Bldg. U040D

Fort Lewis

Ft. Lewis Co: Pierce WA 98433-

Landholding Agency: Army

Property Number: 21199920255

Status: Excess

Comment: 800 sq. ft., needs repair, presence of asbestos/lead paint, most recent use—range house, off-site use only

Bldgs. U052C, U052H

Fort Lewis

Ft. Lewis Co: Pierce WA 98433-

Landholding Agency: Army

Property Number: 21199920256

Status: Excess

Comment: various sq. ft., needs repair, presence of asbestos/lead paint, most recent use—range house, off-site use only

Bldgs. U035A, U035B

Fort Lewis

Ft. Lewis Co: Pierce WA 98433-

Landholding Agency: Army

Property Number: 21199920257

Status: Excess

Comment: 192 sq. ft., needs repair, presence of asbestos/lead paint, most recent use—shelter, off-site use only

Bldg. U035C

Fort Lewis

Ft. Lewis Co: Pierce WA 98433-

Landholding Agency: Army

Property Number: 21199920258

Status: Excess

Comment: 242 sq. ft., needs repair, presence of asbestos/lead paint, most recent use—range house, off-site use only

Bldg. U039A

Fort Lewis

Ft. Lewis Co: Pierce WA 98433-

Landholding Agency: Army

Property Number: 21199920259

Status: Excess

Comment: 36 sq. ft., needs repair, presence of asbestos/lead paint, most recent use—control tower, off-site use only

Bldg. U039B

Fort Lewis

Ft. Lewis Co: Pierce WA 98433-

Landholding Agency: Army

Property Number: 21199920260

Status: Excess

Comment: 1600 sq. ft., needs repair, presence of asbestos/lead paint, most recent use—grandstand/bleachers, off-site use only

Bldg. U039C

Fort Lewis

Ft. Lewis Co: Pierce WA 98433-

Landholding Agency: Army

Property Number: 21199920261

Status: Excess

Comment: 600 sq. ft., needs repair, presence of asbestos/lead paint, most recent use—support, off-site use only

Bldg. U043A

Fort Lewis

Ft. Lewis Co: Pierce WA 98433-

Landholding Agency: Army

Property Number: 21199920262

Status: Excess

Comment: 132 sq. ft., needs repair, presence of asbestos/lead paint, most recent use—range house, off-site use only

Bldg. U052A

Fort Lewis

Ft. Lewis Co: Pierce WA 98433-

Landholding Agency: Army

Property Number: 21199920263

Status: Excess

Comment: 69 sq. ft., needs repair, presence of asbestos/lead paint, most recent use—tower, off-site use only

Bldg. U052E

Fort Lewis

Ft. Lewis Co: Pierce WA 98433-

Landholding Agency: Army

Property Number: 21199920264

Status: Excess

Comment: 600 sq. ft., needs repair, presence of asbestos/lead paint, most recent use—storage, off-site use only

Bldg. U052G

Fort Lewis

Ft. Lewis Co: Pierce WA 98433-

Landholding Agency: Army

Property Number: 21199920265

Status: Excess

Comment: 1600 sq. ft., needs repair, presence of asbestos/lead paint, most recent use—shelter, off-site use only

3 Bldgs.

Fort Lewis

Ft. Lewis Co: Pierce WA 98433-

Location: U058A, U103A, U018A

Landholding Agency: Army

Property Number: 21199920266

Status: Excess

Comment: 36 sq. ft., needs repair, presence of asbestos/lead paint, most recent use—control tower, off-site use only

Bldg. U059A

Fort Lewis

Ft. Lewis Co: Pierce WA 98433-

Landholding Agency: Army

Property Number: 21199920267

Status: Excess

Comment: 16 sq. ft., needs repair, presence of asbestos/lead paint, most recent use—tower, off-site use only

Bldg. U093B

Fort Lewis

Ft. Lewis Co: Pierce WA 98433-

Landholding Agency: Army

Property Number: 21199920268

Status: Excess

Comment: 680 sq. ft., needs repair, presence of asbestos/lead paint, most recent use—range house, off-site use only

4 Bldgs.

Fort Lewis

Ft. Lewis Co: Pierce WA 98433-

Location: U101B, U101C, U507B, U557A

Landholding Agency: Army

Property Number: 21199920269

Status: Excess

Comment: 400 sq. ft., needs repair, presence of asbestos/lead paint, off-site use only

Bldg. U110B

Fort Lewis

Ft. Lewis Co: Pierce WA 98433-

Landholding Agency: Army

Property Number: 21199920272

Status: Excess

Comment: 138 sq. ft., needs repair, presence of asbestos/lead paint, most recent use—support, off-site use only

6 Bldgs.

Fort Lewis

Ft. Lewis Co: Pierce WA 98433-

Location: U111A, U015A, U024E, U052F, U109A, U110A

Landholding Agency: Army

Property Number: 21199920273

Status: Excess

Comment: 1000 sq. ft., needs repair, presence of asbestos/lead paint, most recent use—support/shelter/mess, off-site use only

Bldg. U112A

Fort Lewis

Ft. Lewis Co: Pierce WA 98433-

Landholding Agency: Army

Property Number: 21199920274

Status: Excess

Comment: 1600 sq. ft., needs repair, presence of asbestos/lead paint, most recent use—shelter, off-site use only

Bldg. U115A

Fort Lewis

Ft. Lewis Co: Pierce WA 98433-

Landholding Agency: Army

Property Number: 21199920275

Status: Excess

Comment: 36 sq. ft., needs repair, presence of asbestos/lead paint, most recent use—tower, off-site use only

Bldg. U507A

Fort Lewis

Ft. Lewis Co: Pierce WA 98433-

Landholding Agency: Army

Property Number: 21199920276

Status: Excess

Comment: 400 sq. ft., needs repair, presence of asbestos/lead paint, most recent use—support, off-site use only

Bldg. C0120

Fort Lewis

Ft. Lewis Co: Pierce WA 98433-

Landholding Agency: Army

Property Number: 21199920281

Status: Excess

Comment: 384 sq. ft., needs repair, presence of asbestos/lead paint, most recent use—scale house, off-site use only

Bldg. A0334

Fort Lewis

Ft. Lewis Co: Pierce WA 98433-

Landholding Agency: Army

Property Number: 21199920284

Status: Excess

Comment: 1092 sq. ft., needs repair, presence of asbestos/lead paint, most recent use—sentry station, off-site use only

Bldg. 01205

Fort Lewis

Ft. Lewis Co: Pierce WA 98433-

Landholding Agency: Army

Property Number: 21199920290

Status: Excess

Comment: 87 sq. ft., needs repair, presence of asbestos/lead paint, most recent use—storehouse, off-site use only

Bldg. 01259

Fort Lewis

Ft. Lewis Co: Pierce WA 98433-

Landholding Agency: Army

Property Number: 21199920291

Status: Excess

Comment: 16 sq. ft., needs repair, presence of asbestos/lead paint, most recent use—storage, off-site use only

Bldg. 01266

Fort Lewis

Ft. Lewis Co: Pierce WA 98433-

Landholding Agency: Army

Property Number: 21199920292

Status: Excess

Comment: 45 sq. ft., needs repair, presence of asbestos/lead paint, most recent use—shelter, off-site use only

Bldg. 1445

Fort Lewis

Ft. Lewis Co: Pierce WA 98433-

Landholding Agency: Army

Property Number: 21199920294

Status: Excess

Comment: 144 sq. ft., needs repair, presence of asbestos/lead paint, most recent use—generator bldg., off-site use only

Bldgs. 03091, 03099

Fort Lewis

Ft. Lewis Co: Pierce WA 98433-

Landholding Agency: Army

Property Number: 21199920296

Status: Excess

Comment: various sq. ft., needs repair, presence of asbestos/lead paint, most recent use—sentry station, off-site use only

Bldg. 4040

Fort Lewis

Ft. Lewis Co: Pierce WA 98433-

Landholding Agency: Army

Property Number: 21199920298

Status: Excess

Comment: 8326 sq. ft., needs repair, presence of asbestos/lead paint, most recent use—shed, off-site use only

Bldgs. 4072, 5104

Fort Lewis

Ft. Lewis Co: Pierce WA 98433-

Landholding Agency: Army

Property Number: 21199920299

Status: Excess

Comment: 24/36 sq. ft., needs repair, presence of asbestos/lead paint, off-site use only

Bldg. 4295

Fort Lewis

Ft. Lewis Co: Pierce WA 98433-

Landholding Agency: Army

Property Number: 21199920300

Status: Excess

Comment: 48 sq. ft., needs repair, presence of asbestos/lead paint, most recent use—storage, off-site use only

Bldg. 5170

Fort Lewis

Ft. Lewis Co: Pierce WA 98433-

Landholding Agency: Army

Property Number: 21199920301

Status: Excess

Comment: 19,411 sq. ft., needs repair, presence of asbestos/lead paint, most recent use—store, off-site use only

Bldg. 6191

Fort Lewis

Ft. Lewis Co: Pierce WA 98433-

Landholding Agency: Army

Property Number: 21199920303

Status: Excess

Comment: 3663 sq. ft., needs repair, presence of asbestos/lead paint, most recent use—exchange branch, off-site use only

Bldgs. 08076, 08080

Fort Lewis

Ft. Lewis Co: Pierce WA 98433-

Landholding Agency: Army

Property Number: 21199920304

Status: Excess

Comment: 3660/412 sq .ft., needs repair, presence of asbestos/lead paint, off-site use only

Bldg. 08093

Fort Lewis

Ft. Lewis Co: Pierce WA 98433-

Landholding Agency: Army

Property Number: 21199920305

Status: Excess

Comment: 289 sq. ft., needs repair, presence of asbestos/lead paint, most recent use—boat storage, off-site use only

Bldg. 8279

Fort Lewis

Ft. Lewis Co: Pierce WA 98433-

Landholding Agency: Army

Property Number: 21199920306

Status: Excess

Comment: 210 sq. ft., needs repair, presence of asbestos/lead paint, most recent use—fuel disp. fac., off-site use only

Bldgs. 8280, 8291

Fort Lewis

Ft. Lewis Co: Pierce WA 98433-

Landholding Agency: Army

Property Number: 21199920307

Status: Excess

Comment: 800/464 sq. ft., needs repair, presence of asbestos/lead paint, most recent use—storage, off-site use only

Bldg. 8956

Fort Lewis

Ft. Lewis Co: Pierce WA 98433-

Landholding Agency: Army

Property Number: 21199920308

Status: Excess

Comment: 100 sq. ft., needs repair, presence of asbestos/lead paint, most recent use—storage, off-site use only

Bldg. 9530

Fort Lewis

Ft. Lewis Co: Pierce WA 98433-

Landholding Agency: Army

Property Number: 21199920309

Status: Excess

Comment: 64 sq. ft., needs repair, presence of asbestos/lead paint, most recent use—sentry station, off-site use only

Bldg. 9574

Fort Lewis

Ft. Lewis Co: Pierce WA 98433-

Landholding Agency: Army

Property Number: 21199920310

Status: Excess

Comment: 6005 sq. ft., needs repair, presence of asbestos/lead paint, most recent use—veh. shop., off-site use only

Bldg. 9596

Fort Lewis

Ft. Lewis Co: Pierce WA 98433-

Landholding Agency: Army

Property Number: 21199920311

Status: Excess

Comment: 36 sq. ft., needs repair, presence of asbestos/lead paint, most recent use—gas station, off-site use only

Land (by State)

Georgia

Land (Railbed)

Fort Benning

Ft. Benning Co: Muscogee GA 31905-

Landholding Agency: Army

Property Number: 21199440440

Status: Unutilized

Comment: 17.3 acres extending 1.24 miles, no known utilities potential

Ohio

Land

Defense Supply Center

Columbus Co: Franklin OH 43216-5000

Landholding Agency: Army

Property Number: 21200340094

Status: Excess

Comment: 11 acres, railroad access

South Carolina

One Acre

Fort Jackson

Columbia Co: Richland SC 29207-

Landholding Agency: Army

Property Number: 21200110089

Status: Underutilized

Comment: approx. 1 acre

Suitable/Unavailable Properties

Buildings (by State)

Alabama

Bldgs. 1001-1006, 1106-1107

Fort Rucker

Ft. Rucker Co: Dale AL 36362-5138

Landholding Agency: Army

Property Number: 21200210027

Status: Unutilized

Comment: approx. 9000 sq. ft., poor condition, lead paint present, most recent use—warehouses, off-site use only

Bldg. 01433

Fort Rucker

Ft. Rucker Co: Dale AL 36362-

Landholding Agency: Army

Property Number: 21200220098

Status: Excess

Comment: 800 sq. ft., most recent use—office, off-site use only

Bldg. 24220

Fort Rucker

Ft. Rucker Co: Dale AL 36362-

Landholding Agency: Army

Property Number: 21200320093

Status: Unutilized

Comment: 2128 sq. ft., needs repair, most recent use—scout bldg., off-site use only

Alaska

Bldgs. 345, 347

Ft. Richardson

Ft. Richardson Co: AK 99505-6500

Landholding Agency: Army

Property Number: 21200320094

Status: Excess

Comment: 9456 sq. ft., needs rehab, off-site use only

Bldgs. 354, 357, 359

Ft. Richardson

Ft. Richardson Co: AK 99505-6500

Landholding Agency: Army

Property Number: 21200320095

Status: Excess

Comment: 9456 sq. ft., needs rehab, off-site use only

Bldg. 368

Ft. Richardson

Ft. Richardson Co: AK 99505-6500

Landholding Agency: Army

Property Number: 21200320096

Status: Excess

Comment: 12,642 sq. ft., needs rehab, off-site use only

Bldg. 370

Ft. Richardson

Ft. Richardson Co: AK 99505-6500

Landholding Agency: Army

Property Number: 21200320097

Status: Excess

Comment: 9456 sq. ft., needs rehab, off-site use only

Arizona

Bldg. 00701

Yuma Proving Ground

Yuma Co: AZ 85365-9498

Landholding Agency: Army

Property Number: 21200340077

Status: Unutilized

Comment: 1548 sq. ft., needs repair, possible asbestos/lead paint, most recent use—police station, off-site use only

Bldg. 00702

Yuma Proving Ground

Yuma Co: AZ 85365-9498

Landholding Agency: Army

Property Number: 21200340078

Status: Unutilized

Comment: 3137 sq. ft., needs repair, possible asbestos/lead paint, most recent use—offices, off-site use only

Colorado

Bldg. T-203

Fort Carson

Ft. Carson Co: El Paso CO 80913-

Landholding Agency: Army

Property Number: 21200340079

Status: Unutilized

Comment: 1628 sq. ft., presence of asbestos/lead paint, most recent use—storage, off-site use only

Bldgs. T-223 thru T-227

Fort Carson

Ft. Carson Co: El Paso CO 80913-

Landholding Agency: Army

Property Number: 21200340081

Status: Unutilized

Comment: 9000 sq. ft., presence of asbestos/lead paint, most recent use—warehouse, off-site use only

Bldg. S6222

Fort Carson

Ft. Carson Co: El Paso CO 80913-

Landholding Agency: Army

Property Number: 21200340082

Status: Unutilized

Comment: 19,225 sq. ft., presence of asbestos/lead paint, most recent use—office, off-site use only

Bldg. S6264

Fort Carson

Ft. Carson Co: El Paso CO 80913-

Landholding Agency: Army

Property Number: 21200340084

Status: Unutilized

Comment: 19,499 sq. ft., most recent use—office, off-site use only

Georgia

Bldg. 4090

Fort Benning

Ft. Benning Co: Muscogee GA 31905-

Landholding Agency: Army

Property Number: 21199630007

Status: Underutilized

Comment: 3530 sq. ft., most recent use—chapel, off-site use only

Bldg. 2410

Fort Gordon

Ft. Gordon Co: Richmond GA 30905-

Landholding Agency: Army

Property Number: 21200140076

Status: Unutilized

Comment: 8480 sq. ft., needs rehab, potential asbestos/lead paint, most recent use—storage, off-site use only

Bldg. 20802

Fort Gordon

Ft. Gordon Co: Richmond GA 30905-

Landholding Agency: Army

Property Number: 21200210078

Status: Unutilized

Comment: 740 sq. ft., needs repair, possible asbestos/lead paint, most recent use—storage, off-site use only

Bldg. T-920

Fort Stewart

Hinesville Co: Liberty GA 31314-

Landholding Agency: Army

Property Number: 21200240083

Status: Excess

Comment: 13,337 sq. ft., most recent use—office, off-site use only

Bldgs. 00960, 00961, 00963

Fort Benning

Ft. Benning Co: Chattahoochee GA

Landholding Agency: Army

Property Number: 21200330107

Status: Unutilized

Comment: 11,110 sq. ft., most recent use—housing, off-site use only

Indiana

Bldg. 301

Fort Benjamin Harrison

Indianapolis Co: Marion IN 45216-

Landholding Agency: Army

Property Number: 21200320098

Status: Unutilized

Comment: 1564 sq. ft., possible asbestos/lead paint, most recent use—storage shed, off-site use only

Bldg. 302

Fort Benjamin Harrison

Indianapolis Co: Marion IN 46216-

Landholding Agency: Army

Property Number: 21200320099

Status: Unutilized

Comment: 400 sq. ft., possible asbestos/lead paint, most recent use—switch station, off-site use only

Bldg. 303

Fort Benjamin Harrison

Indianapolis Co: Marion IN 46216-

Landholding Agency: Army

Property Number: 21200320100

Status: Unutilized

Comment: 462 sq. ft., possible asbestos/lead paint, most recent use—heat plant bldg., off-site use only

Bldg. 304

Fort Benjamin Harrison

Indianapolis Co: Marion IN 46216-

Landholding Agency: Army

Property Number: 21200320101

Status: Unutilized

Comment: 896 sq. ft., possible asbestos/lead paint, most recent use—heat plant bldg., off-site use only

Bldg. 334

Fort Benjamin Harrison

Indianapolis Co: Marion IN 46216-

Landholding Agency: Army

Property Number: 21200320102

Status: Unutilized

Comment: 652 sq. ft., possible asbestos/lead paint, off-site use only

Bldg. 337

Fort Benjamin Harrison

Indianapolis Co: Marion IN 46216-

Landholding Agency: Army

Property Number: 21200320103

Status: Unutilized

Comment: 675 sq. ft., possible asbestos/lead paint, off-site use only

Maryland

Bldg. 2282C

Fort George G. Meade

Fort Meade Co: Anne Arundel MD 20755-

Landholding Agency: Army

Property Number: 21200230059

Status: Unutilized

Comment: 46 sq. ft., needs rehab, most recent use—sentry tower, off-site use only

Bldg. 05257

Aberdeen Proving Grounds

Aberdeen Co: Harford MD 21005-

Landholding Agency: Army

Property Number: 21200320134

Status: Unutilized

Comment: 10067 sq. ft., most recent use—maint shop, off-site use only

Missouri

Bldg. 2172

Fort Leonard Wood

Ft. Leonard Wood Co: Pulaski MO 65473-8994

Landholding Agency: Army

Property Number: 21200040059

Status: Unutilized

Comment: 2892 sq. ft., most recent use—operations, off-site use only

Bldg. 1230

Fort Leonard Wood

Ft. Leonard Wood Co: Pulaski MO 65743-8944

Landholding Agency: Army

Property Number: 21200340087

Status: Unutilized

Comment: 9160 sq. ft., most recent use—training, off-site use only

Bldg. 1621

Fort Leonard Wood

Ft. Leonard Wood Co: Pulaski MO 65743-8944

Landholding Agency: Army

Property Number: 21200340088

Status: Unutilized

Comment: 2400 sq. ft., most recent use—exchange branch, off-site use only

Bldg. 03289

Fort Leonard Wood

Ft. Leonard Wood Co: Pulaski MO 65743-8944

Landholding Agency: Army

Property Number: 21200340089

Status: Unutilized

Comment: 8120 sq. ft., presence of lead paint, most recent use—storage, off-site use only

Bldg. 03291

Fort Leonard Wood

Ft. Leonard Wood Co: Pulaski MO 65743-8944

Landholding Agency: Army

Property Number: 21200340090

Status: Unutilized

Comment: 3108 sq. ft., presence of lead paint, most recent use—motor repair shop, off-site use only

Bldg. 6822

Fort Leonard Wood

Ft. Leonard Wood Co: Pulaski MO 65743-8944

Landholding Agency: Army

Property Number: 21200340091

Status: Unutilized

Comment: 4000 sq. ft., most recent use—storage, off-site use only

Bldg. 9000

Fort Leonard Wood

Ft. Leonard Wood Co: Pulaski MO 65743-8944

Landholding Agency: Army

Property Number: 21200340092

Status: Unutilized

Comment: 1440 sq. ft., most recent use—welcome center, off-site use only

Bldg. 10201

Fort Leonard Wood

Ft. Leonard Wood Co: Pulaski MO 65743-8944

Landholding Agency: Army

Property Number: 21200340093

Status: Unutilized

Comment: 1200 sq. ft., most recent use—storage, off-site use only

New York

Bldgs. 1511-1518

U.S. Military Academy

Training Area

Highlands Co: Orange NY 10996-

Landholding Agency: Army

Property Number: 21200320160

Status: Unutilized

Comment: 2400 sq. ft. each, needs rehab, most recent use—barracks, off-site use only

Bldgs. 1523-1526

U.S. Military Academy

Training Area

Highlands Co: Orange NY 10996-

Landholding Agency: Army

Property Number: 21200320161

Status: Unutilized

Comment: 2400 sq. ft. each, needs rehab, most recent use—barracks, off-site use only

Bldgs. 1704-1705, 1721-1722

U.S. Military Academy

Training Area

Highlands Co: Orange NY 10996-

Landholding Agency: Army

Property Number: 21200320162

Status: Unutilized

Comment: 2400 sq. ft. each, needs rehab, most recent use—barracks, off-site use only

Bldg. 1723

U.S. Military Academy

Training Area

Highlands Co: Orange NY 10996-

Landholding Agency: Army

Property Number: 21200320163

Status: Unutilized

Comment: 2400 sq. ft., needs rehab, most recent use—day room, off-site use only

Bldgs. 1706-1709

U.S. Military Academy

Training Area

Highlands Co: Orange NY 10996-

Landholding Agency: Army

Property Number: 21200320164

Status: Unutilized

Comment: 2400 sq. ft. each, needs rehab, most recent use—barracks, off-site use only

Bldgs. 1731-1735

U.S. Military Academy

Training Area

Highlands Co: Orange NY 10996-

Landholding Agency: Army

Property Number: 21200320165

Status: Unutilized

Comment: 2400 sq. ft. each, needs rehab, most recent use—barracks, off-site use only

North Carolina

Bldgs. A2245, A2345

Fort Bragg

Ft. Bragg Co: Cumberland NC 28310-

Landholding Agency: Army

Property Number: 21200240084

Status: Excess

Comment: 3444 sq. ft. each, possible asbestos/lead paint, most recent use—vehicle maint. shop, off-site use only

Bldg. A2544

Fort Bragg

Ft. Bragg Co: Cumberland NC

Landholding Agency: Army

Property Number: 21200240085

Status: Excess

Comment: 4000 sq. ft., possible asbestos/lead paint, most recent use—admin. facility, off-site use only

Bldg. D2826

Fort Bragg

Ft. Bragg Co: Cumberland NC 28310-

Landholding Agency: Army

Property Number: 21200240086

Status: Excess

Comment: 41,520 sq. ft., possible asbestos/lead paint, most recent use—barracks, off-site use only

Bldg. N4116

Fort Bragg

Ft. Bragg Co: Cumberland NC 28310-

Landholding Agency: Army

Property Number: 21200240087

Status: Excess

Comment: 3944 sq. ft., possible asbestos/lead paint, most recent use—community facility, off-site use only

103 Bldgs.

Fort Bragg

Ft. Bragg Co: Cumberland NC 28310-5000

Location: WS001-WS02A, PE001-PE031, 002F1-02F36, 00651, 1101, DT001-DT035, DT052-DT056, 09051

Landholding Agency: Army

Property Number: 21200240088

Status: Excess

Comment: multi-use structures, various sq ft., possible asbestos/lead paint, off-site use only

Pennsylvania

Bldg. 00001

Defense Distribution Depot

New Cumberland Co: York PA 17070-5002

Landholding Agency: Army

Property Number: 21200330183

Status: Unutilized

Comment: 225,400 sq. ft., needs rehab, most recent use—admin/storage/misc, off-site use only

Bldg. 00002

Defense Distribution Depot

New Cumberland Co: York PA 17070-5002

Landholding Agency: Army

Property Number: 21200330184

Status: Unutilized

Comment: 44,800 sq. ft., needs rehab, most recent use—shop/storage, off-site use only

Bldgs. 00004, 00005, 00006

Defense Distribution Depot

New Cumberland Co: York PA 17070-5002

Landholding Agency: Army

Property Number: 21200330185

Status: Unutilized

Comment: 201,600 sq. ft. each, needs rehab, most recent use—warehouse/storage, off-site use only

Bldg. 00013

Defense Distribution Depot

New Cumberland Co: York PA 17070-5002

Landholding Agency: Army

Property Number: 21200330186

Status: Unutilized

Comment: 1200 sq. ft., needs rehab, off-site use only

Bldg. 00024

Defense Distribution Depot

New Cumberland Co: York PA 17070-5002

Landholding Agency: Army

Property Number: 21200330187

Status: Unutilized

Comment: 3100 sq. ft., needs rehab, most recent use—eng/housing mnt, off-site use only

Bldg. 00025

Defense Distribution Depot

New Cumberland Co: York PA 17070-5002

Landholding Agency: Army

Property Number: 21200330188

Status: Unutilized

Comment: 2640 sq. ft., needs rehab, most recent use—salt shed, off-site use only

Bldg. 00028

Defense Distribution Depot

New Cumberland Co: York PA 17070-5002

Landholding Agency: Army

Property Number: 21200330189

Status: Unutilized

Comment: 12,352 sq. ft., needs rehab, most recent use—vehicle maint shop, off-site use only

Bldg. 00064

Defense Distribution Depot

New Cumberland Co: York PA 17070-5002

Landholding Agency: Army

Property Number: 21200330190

Status: Unutilized

Comment: 900 sq. ft., needs rehab, off-site use only

Bldg. 00068

Defense Distribution Depot

New Cumberland Co: York PA 17070-5002

Landholding Agency: Army

Property Number: 21200330191

Status: Unutilized

Comment: 717 sq. ft., needs rehab, off-site use only

Bldg. 00078

Defense Distribution Depot

New Cumberland Co: York PA 17070-5002

Landholding Agency: Army

Property Number: 21200330192

Status: Unutilized

Comment: 32 sq. ft., needs rehab, off-site use only

Bldg. 00095

Defense Distribution Depot

New Cumberland Co: York PA 17070-5002

Landholding Agency: Army

Property Number: 21200330193

Status: Unutilized

Comment: 480 sq. ft., needs rehab, most recent use—storage, off-site use only

Bldg. 00096

Defense Distribution Depot

New Cumberland Co: York PA 17070-5002

Landholding Agency: Army

Property Number: 21200330194

Status: Unutilized

Comment: 1824 sq. ft., needs rehab, most recent use—storage, off-site use only

Bldg. 00097

Defense Distribution Depot

New Cumberland Co: York PA 17070-5002

Landholding Agency: Army

Property Number: 21200330195

Status: Unutilized

Comment: most recent use—open storage, off-site use only

Bldg. 02010

Defense Distribution Depot

New Cumberland Co: York PA 17070-5002

Landholding Agency: Army

Property Number: 21200330196

Status: Unutilized

Comment: 288 sq. ft., needs rehab, off-site use only

Tennessee

Bldgs. 01551, 01552

Fort Campbell

Ft. Campbell Co: Montgomery TN 42223-

Landholding Agency: Army

Property Number: 21200230076

Status: Unutilized

Comment: 2052 sq. ft.

Texas

Bldgs. 4219, 4227

Fort Hood

Ft. Hood Co: Bell TX 76544-

Landholding Agency: Army

Property Number: 21200220139

Status: Unutilized

Comment: 8056 & 10,500 sq. ft., most recent use—admin., off-site use only

Bldgs. 4229, 4230, 4231

Fort Hood

Ft. Hood Co: Bell TX 76544-

Landholding Agency: Army

Property Number: 21200220140

Status: Unutilized

Comment: 9000 sq. ft., most recent use—hq. bldg., off-site use only

Bldgs. 4244, 4246

Fort Hood

Ft. Hood Co: Bell TX 76544-

Landholding Agency: Army

Property Number: 21200220141

Status: Unutilized

Comment: 9000 sq. ft., most recent use—storage, off-site use only

Bldgs. 4260, 4261, 4262

Fort Hood

Ft. Hood Co: Bell TX 76544-

Landholding Agency: Army

Property Number: 21200220142

Status: Unutilized

Comment: 7680 sq. ft., most recent use—storage, off-site use only

Virginia

Bldg. T2827

Fort Pickett

Blackstone Co: Nottoway VA 23824-

Landholding Agency: Army

Property Number: 21200320172

Status: Unutilized

Comment: 3550 sq. ft., presence of asbestos, most recent use—dining, off-site use only

Bldg. T2841

Fort Pickett

Blackstone Co: Nottoway VA 23824-

Landholding Agency: Army

Property Number: 21200320173

Status: Unutilized

Comment: 2950 sq. ft., presence of asbestos, most recent use—dining, off-site use only

Washington

Bldg. 03272

Fort Lewis

Tacoma Co: Pierce WA 98335-

Landholding Agency: Army

Property Number: 21200220160

Status: Unutilized

Comment: 21,373 sq. ft., most recent use—hangar, off-site use only

Bldg. 04180

Fort Lewis

Ft. Lewis Co: Pierce WA 98433-9500

Landholding Agency: Army

Property Number: 21200240091

Status: Excess

Comment: 72 sq. ft., most recent use—guard shack, off-site use only

Bldg. 05904

Fort Lewis

Ft. Lewis Co: Pierce WA 98433-9500

Landholding Agency: Army

Property Number: 21200240092

Status: Excess

Comment: 82 sq. ft., most recent use—guard shack, off-site use only

Bldgs. 9003, 9517

Fort Lewis

Ft. Lewis Co: Pierce WA 98433-9500

Landholding Agency: Army

Property Number: 21200240093

Status: Excess

Comment: 80 and 82 sq. ft., most recent use—guard shack, off-site use only

Unsuitable Properties

Buildings (by State)

Alabama

72 Bldgs.

Redstone Arsenal

Redstone Arsenal Co: Madison AL 35898

Landholding Agency: Army

Property Number: 21200040001-21200040012, 21200120018, 21200220003-21200220004, 21200240007-21200240023, 21200330001-2120330004, 21200340011-21200340012, 21200340095

Status: Unutilized

Reason: Secured Area; Extensive deterioration

21 Bldgs., Fort Rucker

Ft. Rucker Co: Dale AL 36362

Landholding Agency: Army

Property Number: 219740006, 21200010010, 21200040013, 21200220001, 21200240001-21200240004

Status: Unutilized

Reason: Extensive deterioration

Bldg. 28152

Rucker

Hartford Co: Geneva AL 36344

Landholding Agency: Army

Property Number: 21200230002

Status: Unutilized

Reason: Extensive deterioration

Alaska

14 Bldgs., Fort Wainwright

Ft. Wainwright AK 99703

Landholding Agency: Army

Property Number: 219710090, 219710195-219710198, 219810002, 219810007, 21199920001, 21200320005, 21200340007-21200340010

Status: Unutilized

Reason: Within 2000 ft. of flammable or explosive material; Secured area; Floodway (Some are extensively deteriorated)

24 Bldgs., Fort Richardson

Ft. Richardson Co: AK 99505

Landholding Agency: Army

Property Number: 21200320001-21200320004, 21200340001-21200340006

Status: Excess

Reason: Extensive deterioration

Arizona

32 Bldgs.

Navajo Depot Activity

Bellemont Co: Coconino AZ 86015

Location: 12 miles west of Flagstaff, Arizona on I-40

Landholding Agency: Army

Property Number: 219014560-219014591

Status: Underutilized

Reason: Secured Area

10 properties: 753 earth covered igloos; above ground standard magazines

Navajo Depot Activity

Bellemont Co: Coconino AZ 86015

Location: 12 miles west of Flagstaff, Arizona on I-40

Landholding Agency: Army

Property Number: 219014592-219014601

Status: Underutilized

Reason: Secured Area

7 Bldgs.

Navajo Depot Activity

Bellemont Co: Coconino AZ 86015-5000

Location: 12 miles west of Flagstaff on I-40

Landholding Agency: Army

Property Number: 219030273-219030274, 219120177-219120181

Status: Unutilized

Reason: Secured Area

9 Bldgs.

Camp Navajo

Bellemont Co: AZ 86015

Landholding Agency: Army

Property Number: 21200140002-21200140010

Status: Unutilized

Reasons: Within 2000 ft. of flammable or explosive material; Secured Area

Bldgs. 15348, 15333

Fort Huachuca

Ft. Huachuca Co: Cochise AZ 85613

Landholding Agency: Army

Property Number: 21200240024, 21200320005

Status: Excess

Reason: Extensive deterioration

Arkansas

189 Bldgs., Fort Chaffee

Ft. Chaffee Co: Sebastian AR 72905-5000

Landholding Agency: Army

Property Number: 219630019, 219630021, 219630029, 219640462-219640477, 21200110001-21200110017, 21200140011-21200140014

Status: Unutilized

Reason: Extensive deterioration

California

Bldg. 18

Riverbank Army Ammunition Plant

5300 Claus Road

Riverbank Co: Stanislaus CA 95367

Landholding Agency: Army

Property Number: 219012554

Status: Unutilized

Reason: Within 2000 ft. of flammable or explosive material; Secured Area

11 Bldgs., Nos. 2-8, 156, 1, 120, 181

Riverbank Army Ammunition Plant

Riverbank Co: Stanislaus CA 95367

Landholding Agency: Army

Property Number: 219013582-219013588, 219013590, 219240444-219240446

Status: Underutilized

Reason: Secured Area

Bldgs. 13, 171, 178 Riverbank Ammun Plant

5300 Claus Road

Riverbank Co: Stanislaus CA 95367

Landholding Agency: Army

Property Number: 219120162-219120164

Status: Underutilized

Reason: Secured Area

40 Bldgs.

DDDRW Sharpe Facility

Tracy Co: San Joaquin CA 95331

Landholding Agency: Army

Property Number: 219610289, 21199930021, 21200030005-21200030015, 21200040015, 21200120029-21200120039, 21200130004, 21200240025-21200240030, 21200330007

Status: Unutilized

Reason: Secured Area

Bldgs. 29, 39, 73, 154, 155, 193, 204, 257

Los Alamitos Co: Orange CA 90720-5001

Landholding Agency: Army

Property Number: 219520040

Status: Unutilized

Reason: Extensive deterioration

10 Bldgs.

Sierra Army Depot

Herlong Co: Lassen CA 96113

Landholding Agency: Army

Property Number: 21199840015, 21199920033-21199920036, 21199940052-21199940056

Status: Underutilized

Reason: Within 2000 ft. of flammable or explosive material; Secured Area

449 Bldgs.

Camp Roberts

Camp Roberts Co: San Obispo CA

Landholding Agency: Army

Property Number: 21199730014, 219820192-219820235

Status: Excess

Reason: Secured Area; Extensive deterioration

27 Bldgs.

Presidio of Monterey Annex

Seaside Co: Monterey CA 93944

Landholding Agency: Army

Property Number: 21199940051, 21200130005

Status: Unutilized

Reason: Extensive deterioration

46 Bldgs.

Fort Irwin

Ft. Irwin Co: San Bernardino CA 92310

Landholding Agency: Army

Property Number: 21199920037-21199920038, 21200030016-21200030018, 21200040014, 21200110018-21200110020, 21200130002-21200130003, 21200210001-21200210005, 21200240031-21200240033

Status: Unutilized

Reason: Secured Area; Extensive deterioration

Bldg. 00720

Fort Hunter Liggett

Jolon Co: Monterey CA 93928

Landholding Agency: Army

Property Number: 21200330006

Status: Unutilized

Reason: Extensive deterioration

Colorado

Bldgs. T-317, T-412, 431, 433

Rocky Mountain Arsenal

Commerce Co: Adams CO 80022-2180

Landholding Agency: Army

Property Number: 219320013-219320016

Status: Unutilized

Reason: Within 2000 ft. of flammable or explosive material; Secured Area; Extensive deterioration

7 Bldgs.

Fort Carson

Ft. Carson Co: El Paso CO 80913-5023

Landholding Agency: Army

Property Number: 219830024, 21200130006-21200130011

Status: Unutilized

Reason: Extensive deterioration

Bldgs. 00087, 00088, 00096

Pueblo Chemical Depot

Pueblo CO 81006-9330

Landholding Agency: Army

Property Number: 21200030019-21200030021

Status: Unutilized

Reason: Extensive deterioration

Georgia

Fort Stewart

Sewage Treatment Plant

Ft. Stewart Co: Hinesville GA 31314

Landholding Agency: Army

Property Number: 219013922

Status: Unutilized

Reason: Sewage treatment

Facility 12304

Fort Gordon

Augusta Co: Richmond GA 30905

Location: Located off Lane Avenue

Landholding Agency: Army

Property Number: 219014787

Status: Unutilized

Reason: Wheeled vehicle grease/inspection rack

154 Bldgs.

Fort Gordon

Augusta Co: Richmond GA 30905

Landholding Agency: Army

Property Number: 219220269, 219410050-219410051, 219410071-219410072, 219410100, 219410109, 219630044-219630063, 219640011-219640024, 219830038-219830067, 21199910012, 21200210061-21200210073, 21200220007-21200220010, 21200230007-21200230015

Status: Unutilized

Reason: Extensive deterioration

Bldg. 2872, Fort Benning

Ft. Benning Co: Muscogee GA 31905

Landholding Agency: Army

Property Number: 219220337

Status: Unutilized

Reason: Detached lavatory

40 Bldgs., Fort Benning

Ft. Benning Co: Muscogee GA 31905

Landholding Agency: Army

Property Number: 219520150, 219610320, 219720017-219720019, 219810028, 219810030, 219810035, 219830073, 219830076, 21199930031-21199930037, 21200030023-21200030027, 21200330008-21200330010, 21200330200, 21200410001-21200410010

Status: Unutilized

Reason: Extensive deterioration

23 Bldgs.

Fort Gillem

Forest Park Co: Clayton GA 30050

Landholding Agency: Army

Property Number: 219620815, 21199920044-21199920050, 21200140016, 21200220011-21200220012, 21200230005, 21200340013-21200340016

Status: Unutilized

Reason: Extensive deterioration; Secured Area

Bldg. P8121, Fort Stewart

Hinesville Co: Liberty GA 31314

Landholding Agency: Army

Property Number: 21199940060

Status: Unutilized

Reason: Extensive Deterioration

3 Bldgs., Hunter Army Airfield

Savannah Co: Chatham GA 31409

Landholding Agency: Army

Property Number: 219630034, 219830068, 21200120042

Status: Unutilized

Reason: Extensive deterioration

4 Bldgs., Fort McPherson

Ft. McPherson Co: Fulton GA 30330-5000

Landholding Agency: Army

Property Number: 21200040016-21200040018, 21200230004

Status: Unutilized

Reason: Secured Area

Hawaii

16 Bldgs.

Schofield Barracks

Wahiawa Co: Wahiawa HI 96786-

Landholding Agency: Army

Property Number: 219014836-219014837, 219030361, 21200410012

Status: Unutilized

Reason: Secured Area (Most are extensively deteriorated)

4 Bldgs., Fort Shafter

Honolulu Co: HI 96819

Landholding Agency: Army

Property Number: 21200240034, 21200310001

Status: Unutilized

Reason: Extensive deterioration

6 Bldgs

Kipapa Ammo Storage Site 20A/B, 21A/B, 22B, 23A/B, 24A/B, 25A/B

Waipahu Co: Honolulu HI 96797

Landholding Agency: Army

Property Number: 21200410011

Status: Unutilized

Reason: Secured Area

Illinois

13 Bldgs.

Rock Island Arsenal

Rock Island Co: Rock Island IL 61299-5000

Landholding Agency: Army

Property Number: 219110104-219110108, 219210100, 219620427, 219620428, 21200140043-21200140046

Status: Unutilized

Reason: Some are in a secured area; Some are extensively deteriorated; Some are within 2000 ft. of flammable or explosive material

15 Bldgs.

Charles Melvin Price Support Center

Granite City Co: Madison IL 62040

Landholding Agency: Army

Property Number: 219820027, 21199930042-21199930053

Status: Unutilized

Reason: Secured Area, Floodway; Extensive deterioration

Bldgs. 111, 145

Col. Schulstad Memorial USARC

Arlington Heights Co: Cook IL 60005

Landholding Agency: Army

Property Number: 21200320012

Status: Unutilized

Reason: Extensive deterioration

Indiana

173 Bldgs.

Newport Army Ammunition Plant

Newport Co: Vermillion IN 47966-

Landholding Agency: Army

Property Number: 219011584, 219011586-219011587, 219011589-219011590, 219011592-219011627, 219011629-219011636, 219011638-219011641, 219210149, 219430336, 219430338, 219530079-219530096, 219740021-219740026, 219820031-219820032, 21199920063, 21200330015-21200330016

Status: Unutilized

Reason: Secured Area (Some are extensively deteriorated)

2 Bldgs.

Atterbury Reserve Forces Training Area

Edinburgh Co: Johnson IN 46124-1096

Landholding Agency: Army

Property Number: 219230030-219230031

Status: Unutilized

Reason: Extensive deterioration

Bldg. 300

Fort Benjamin Harrison

Indianapolis Co: Marion IN 46216

Landholding Agency: Army

Property Number: 21200320011

Status: Unutilized

Reason: Contamination

Iowa

107 Bldgs.

Iowa Army Ammunition Plant

Middletown Co: Des Moines IA 52638-

Landholding Agency: Army

Property Number: 219012605-219012607, 219012609, 219012611, 219012613, 219012620, 219012622, 219012624, 219013706-219013738, 219120172-219120174, 219440112-219440158, 219520002, 219520070, 219610414, 219740027, 21200220022, 21200230019-21200230023, 21200330012-21200330014, 21200340017

Status: Unutilized

Reason: (Many are in a Secured Area) (Most are within 2000 ft. of flammable or explosive material)

27 Bldgs., Iowa Army Ammunition Plant

Middletown Co: Des Moines IA 52638

Landholding Agency: Army

Property Number: 219230005-219230029, 219310017, 219340091

Status: Unutilized

Reason: Extensive deterioration

Kansas

37 Bldgs.

Kansas Army Ammunition Plant

Production Area

Parsons Co: Labette KS 67357-

Landholding Agency: Army

Property Number: 219011909-219011945

Status: Unutilized

Reason: Secured Area (Most are within 2000 ft. of flammable or explosive material)

121 Bldgs.

Kansas Army Ammunition Plant

Parsons Co: Labette KS 67357

Landholding Agency: Army

Property Numbers: 219620518-219620638

Status: Unutilized

Reason: Secured Area

Bldg. P-417

Fort Leavenworth

Leavenworth KS 66027

Landholding Agency: Army

Property Number: 219740029

Status: Unutilized

Reason: Extensive deterioration; Sewage pump station

Bldg. 00166

Fort Riley

Ft. Riley Co: Riley KS 66442

Landholding Agency: Army

Property Number: 21200310007

Status: Unutilized

Reason: Extensive deterioration

Bldg. 00475

Ft. Leavenworth

Ft. Leavenworth Co: KS 66027

Landholding Agency: Army

Property Number: 21200410013

Status: Unutilized

Reason: Secured Area

Kentucky

Bldg. 126

Lexington—Blue Grass Army Depot

Lexington Co: Fayette KY 40511-

Location: 12 miles northeast of Lexington, Kentucky

Landholding Agency: Army

Property Number: 219011661

Status: Unutilized

Reason: Secured Area; Sewage treatment facility

Bldg. 12

Lexington—Blue Grass Army Depot

Lexington Co: Fayette KY 40511-

Location: 12 miles Northeast of Lexington Kentucky

Landholding Agency: Army

Property Number: 219011663

Status: Unutilized

Reason: Industrial waste treatment plant

476 Bldgs., Fort Knox

Ft. Knox Co: Hardin KY 40121-

Landholding Agency: Army

Property Number: 21200130026-21200130029, 21200220030-21200220055, 21200240035-21200240045, 21200320013-21200320014, 21200340018

Status: Unutilized

Reason: Extensive deterioration

44 Bldgs., Fort Campbell

Ft. Campbell Co: Christian KY 42223

Landholding Agency: Army

Property Number: 21200110030-21200110049, 21200140048, 21200140053, 21200220029, 21200230029-21200230030, 21200320018, 21200330017-21200330022

Status: Unutilized

Reason: Extensive deterioration

Louisiana

528 Bldgs.

Louisiana Army Ammunition Plant

Doylin Co: Webster LA 71023-

Landholding Agency: Army

Property Number: 219011714-219011716, 219011735-219011737, 219012112, 219013863-219013869, 219110131, 219240138-219240147, 219420332, 219610049-219610263, 219620002-219620200, 219620749-219620801, 219820047-219820078

Status: Unutilized

Reason: Secured Area (Most are within 2000 ft. of flammable or explosive material) (Some are extensively deteriorated)

38 Bldgs., Fort Polk

Ft. Polk Co: Vernon Parish LA 71459-7100

Landholding Agency: Army

Property Number: 21199920070, 21199920078, 21199940074, 21199940075, 21200120058, 21200130030-21200130043

Status: Unutilized

Reason: Extensive deterioration (Some are in Floodway)

Maryland

73 Bldgs.

Aberdeen Proving Ground

Aberdeen City Co: Harford MD 21005-5001

Landholding Agency: Army

Property Number: 219011417, 219012610, 219012637-219012642, 219012658-219012662, 219013773, 219014711, 219610489-219610490, 219730077, 219810070-219810121, 219820090-219820096, 21200120059-21200120060, 21200330024-21200330025, 21200410017-21200410033

Status: Unutilized

Reason: (Most are in a secured area) (Some are within 2000 ft. of flammable or explosive material) (Some are in a floodway) (Some are extensively deteriorated)

77 Bldgs. Ft. George G. Meade

Ft. Meade Co: Anne Arundel MD 20755-

Landholding Agency: Army

Property Number: 219710186, 219740068-219740076, 219810065, 21199910019, 21199940084, 21200140059-21200140060, 21200240046-21200240053, 21200310017, 21200330023, 21200410014-21200410016

Status: Unutilized

Reason: Extensive deterioration

12 Bldgs.

Woodstock Military Rsv

Granite Co: Baltimore MD 22163

Landholding Agency: Army

Property Number: 21200130044-21200130052

Status: Unutilized

Reason: Extensive deterioration

Bldg. 00211

Curtis Bay Ordnance Depot

Baltimore Co: MD 21226

Landholding Agency: Army

Property Number: 21200320024

Status: Unutilized

Reason: Extensive deterioration

Massachusetts

Bldg. 3462, Camp Edwards

Massachusetts Military Reservation

Bourne Co: Barnstable MA 024620-5003

Landholding Agency: Army

Property Number: 219230095

Status: Unutilized

Reason: Secured Area; Extensive deterioration

Bldg. 1211 Camp Edwards

Massachusetts Military Reservation

Bourne Co: Barnstable MA 02462-5003

Landholding Agency: Army

Property Number: 219310020

Status: Unutilized

Reason: Secured Area

Facility No. 0G001

LTA Granby

Granby Co: Hampshire MA

Landholding Agency: Army

Property Number: 219810062

Status: Unutilized

Reason: Extensive deterioration

5 Bldgs.

Devens RFTA

Devens Co: MA 01432-4429

Landholding Agency: Army

Property Number: 21200340019-21200340021

Status: Unutilized

Reason: Extensive deterioration

Michigan

Bldgs. 5755-5756

Newport Weekend Training Site

Carleton Co: Monroe MI 48166

Landholding Agency: Army

Property Number: 219310060-219310061

Status: Unutilized

Reason: Secured Area; Extensive deterioration

31 Bldgs.

Fort Custer Training Center

2501 26th Street

Augusta Co: Kalamazoo MI 49102-9205

Landholding Agency: Army

Property Number: 21200220058-21200220062, 21200410036-21200410042

Status: Unutilized

Reason: Extensive deterioration

10 Bldgs.

Selfridge ANG Base

Selfridge Co: MI 48045

Landholding Agency: Army

Property Number: 21199930059, 21199940089-21199940093, 21200110052-21200110055

Status: Unutilized

Reason: Secured Area

Bldgs. 08625, 8639

Poxin USAR Center

Southfield Co: Oakland MI 48034

Landholding Agency: Army

Property Number: 21200330026-21200330027

Status: Unutilized

Reason: Extensive deterioration

8 Bldgs.

Grayling Army Airfield

Grayling Co: Crawford MI 49739

Landholding Agency: Army

Property Number: 21200410034-21200410035

Status: Excess

Reason: Extensive deterioration

Minnesota

160 Bldgs.

Twin Cities Army Ammunition Plant

New Brighton Co: Ramsey MN 55112-

Landholding Agency: Army

Property Number: 219120166, 219210014-219210015, 219220227-219220235, 219240328, 219310056, 219320152-219320156, 219330096-219330106, 219340015, 219410159-219410189, 219420198-219420283, 219430060-219430064, 21200130053-21200130054

Status: Unutilized

Reason: Secured Area (Most are within 2000 ft. of flammable or explosive material) (Some are extensively deteriorated)

Missouri

83 Bldgs.

Lake City Army Ammo. Plant

Independence Co: Jackson MO 64050-

Landholding Agency: Army

Property Number: 219013666-219013669, 219530134-219530136, 21199910023-21199910035, 21199920082, 21200030049

Status: Unutilized

Reason: Secured Area (Some are within 2000 ft. of flammable or explosive material)

9 Bldgs.

St. Louis Army Ammunition Plant

4800 Goodfellow Blvd.

St. Louis Co: St. Louis MO 63120-1798

Landholding Agency: Army

Property Number: 219120067-219120068, 219610469-219610475

Status: Unutilized

Reason: Secured Area (Some are extensively deteriorated)

25 Bldgs.

Fort Leonard Wood

Ft. Leonard Wood Co: Pulaski MO 65473-5000

Landholding Agency: Army

Property Number: 219430070-219430075, 21199910020-21199910021, 21200320025, 21200320030, 21200330028-21200330031

Status: Unutilized

Reason: Within 2000 ft. of flammable or explosive material (Some are extensively deteriorated)

Bldg. P4122

U.S. Army Reserve Center

St. Louis Co: St. Charles MO 63120-1794

Landholding Agency: Army

Property Number: 21200240055

Status: Unutilized

Reason: Extensive deterioration

Bldgs. P4074, P4072, P4073

St. Louis Ordnance Plant

St. Louis Co: St. Charles MO 63120-1794

Landholding Agency: Army

Property Number: 21200310019

Status: Unutilized

Reason: Extensive deterioration

Nevada

Bldg. 292

Hawthorne Army Ammunition Plant

Hawthorne Co: Mineral NV 89415-

Landholding Agency: Army

Property Number: 219013614

Status: Unutilized

Reason: Secured Area

39 Bldgs.

Hawthorne Army Ammunition Plant

Hawthorne Co: Mineral NV 89415-

Landholding Agency: Army

Property Number: 219012013, 219013615-219013643

Status: Underutilized

Reason: Secured Area (Some within airport runway clear zone; many within 2000 ft. of flammable or explosive material)

Group 101, 34 Bldgs.

Hawthorne Army Ammunition Plant

Co: Mineral NV 89415-0015

Landholding Agency: Army

Property Number: 219830132

Status: Unutilized

Reason: Within 2000 ft. of flammable or explosive material; Secured Area

New Jersey

167 Bldgs.

Picatinny Arsenal

Dover Co: Morris NJ 07806-5000

Landholding Agency: Army

Property Number: 219010444-219010474, 219010639-219010664, 219010680-219010715, 219012428, 219012430, 219012433-219012465, 219012469, 219012475, 219012765, 219014306, 219014311, 219014317, 219140617, 219230123, 219420006, 219530147, 219540005, 219540007, 219740113-219740127, 21199940094-21199940099, 21200130057-21200130063, 21200220063, 21200230071-21200230075, 21200330047-21200330063, 21200410043-21200410044

Status: Excess

Reason: Secured Area (Most are within 2000 ft. of flammable or explosive material) (Some are extensively deteriorated) (Some are in a floodway)

4 Bldgs., Ft. Monmouth

Ft. Monmouth Co: NJ 07703

Landholding Agency: Army

Property Number: 21200330033-21200330036

Status: Unutilized

Reason: Extensive deterioration

11 Bldgs., Fort Dix

Ft. Dix Co: Burlington NJ 08640-5506

Landholding Agency: Army

Property Number: 21200330037-21200330046

Status: Unutilized

Reason: Extensive deterioration

New Mexico

39 Bldgs.

White Sands Missile Range

Dona Ana Co: NM 88002

Landholding Agency: Army

Property Number: 21200410045-21200410049

Status: Excess

Reason: Secured Area

New York

Bldgs. 110, 143, 2084, 2105, 2110

Seneca Army Depot

Romulus Co: Seneca NY 14541-5001

Landholding Agency: Army

Property Number: 219240439, 219240440-219240443

Status: Unutilized

Reason: Secured Area; Extensive deterioration

Bldgs. 12, 134

Watervliet Arsenal

Watervliet NY

Landholding Agency: Army

Property Number: 219730099, 21199840068

Status: Unutilized

Reason: Extensive deterioration; Secured Area

13 Bldgs.

Youngstown Training Site

Youngstown Co: Niagara NY 14131

Landholding Agency: Army

Property Number: 21200220064-21200220069

Status: Unutilized

Reason: Extensive deterioration

Bldgs. 1716, 3014

U.S. Military Academy

West Point Co: NY 10996

Landholding Agency: Army

Property Number: 21200330064, 21200410050

Status: Unutilized

Reason: Extensive deterioration

4 Bldgs., Fort Drum

Ft. Drum Co: Jefferson NY 13602

Landholding Agency: Army

Property Number: 21200340027-21200340029, 21200410051

Status: Unutilized

Reason: Extensive deterioration

North Carolina

120 Bldgs., Fort Bragg

Ft. Bragg Co: Cumberland NC 28307

Landholding Agency: Army

Property Number: 219620480, 219640074, 219710102-219710111, 219710224, 219810167, 21199930063-21199930066, 21200040035, 21200140064, 21200340030-21200340045, 21200410052-21200410058

Status: Unutilized

Reason: Extensive deterioration

3 Bldgs.

Military Ocean Terminal

Southport Co: Brunswick NC 28461-5000

Landholding Agency: Army

Property Number: 219810158-219810160, 21200330032

Status: Unutilized

Reason: Secured Area

North Dakota

Bldgs. 440, 455, 456, 3101, 3110

Stanley R. Mickelsen

Nekoma Co: Cavalier ND 58355

Landholding Agency: Army

Property Number: 21199940103-21199940107

Status: Unutilized

Reason: Extensive deterioration

Ohio

348 Bldgs.

Ravenna Army Ammunition Plant

Ravenna Co: Portage OH 44266-9297

Landholding Agency: Army

Property Number: 21199840069-21199840104, 21200240064

Status: Unutilized

Reason: Secured Area

7 Bldgs.

Lima Army Tank Plant

Lima OH 45804-1898

Landholding Agency: Army

Property Number: 219730104-219730110

Status: Unutilized

Reason: Secured Area

Bldg. T091

Defense Supply Center

Columbus Co: Franklin OH 43216-5000

Landholding Agency: Army

Property Number: 21200340046

Status: Unutilized

Reason: Extensive deterioration

Oklahoma

5 Bldgs.

Fort Sill

Lawton Co: Comanche OK 73503-

Landholding Agency: Army

Property Number: 219510023, 21200330065-21200330067

Status: Unutilized

Reason: Extensive deterioration

Oregon

11 Bldgs.

Tooele Army Depot

Umatilla Depot Activity

Hermiston Co: Morrow/Umatilla OR 97838-

Landholding Agency: Army

Property Number: 219012174-219012176, 219012178-219012179, 219012190-219012191, 219012197-219012198, 219012217, 219012229

Status: Underutilized

Reason: Secured Area

34 Bldgs.

Tooele Army Depot

Umatilla Depot Activity

Hermiston Co: Morrow/Umatilla OR 97838-

Landholding Agency: Army

Property Number: 219012177, 219012185-219012186, 219012189, 219012195-219012196, 219012199-219012205, 219012207-219012208, 219012225, 219012279, 219014304-219014305, 219014782, 219030362-219030363, 219120032, 21199840108-21199840110, 21199920084-21199920090

Status: Unutilized

Reason: Secured Area

Pennsylvania

59 Bldgs., Fort Indiantown Gap

Annville Co: Lebanon PA 17003-5011

Landholding Agency: Army

Property Number: 219640337, 219730122-219730128, 219740137, 219810178-219810193

Status: Unutilized

Reason: Extensive deterioration

35 Bldgs.

Defense Distribution Depot

New Cumberland Co: York PA 17070-5001

Landholding Agency: Army

Property Number: 21199940109-21199940111, 21200110058-21200110063, 21200130072, 21200220072-21200220073, 21200330071-21200330076, 21200330201, 21200340047-21200340051, 21200410059-21200410061

Status: Unutilized

Reason: Secured Area (Some are extensively deteriorated)

Bldg. 01006, Tobyhanna Army Depot

Tobyhanna Co: Monroe PA 18466

Landholding Agency: Army

Property Number: 21200330068

Status: Unutilized

Reason: Extensive deterioration

Bldg. 01003, C.E. Kelly Support Facility

Neville Island Co: Allegheny PA 15225

Landholding Agency: Army

Property Number: 21200330069

Status: Unutilized

Reason: Extensive deterioration

Puerto Rico

86 Bldgs., Fort Buchanan

Guaynabo Co: PR 00934

Landholding Agency: Army

Property Number: 21200330077-21200330092, 21200340052-21200340055

Status: Unutilized

Reason: Secured Area (Some are extensively deteriorated)

Rhode Island

Bldg. 104, Army Aviation

North Kingstown Co: Washington RI 02852

Landholding Agency: Army

Property Number: 21200120064

Status: Unutilized

Reason: Extensive deterioration

South Carolina

40 Bldgs., Fort Jackson

Ft. Jackson Co: Richland SC 29207

Landholding Agency: Army

Property Number: 219440237, 219440239, 219620312, 219620317, 219620348, 219620351, 219640138-219640139, 21199640148-21199640149, 219720095, 219720097, 219730130, 219730132, 219730145-219730157, 219740138, 219820102-219820111, 219830139-219830157

Status: Unutilized

Reason: Extensive deterioration

Tennessee

80 Bldgs.

Holston Army Ammunition Plant

Kingsport Co: Hawkins TN 61299-6000

Landholding Agency: Army

Property Number: 219012304-219012309, 219012311-219012312, 219012314, 219012316-219012317, 219012319, 219012328, 219012330, 219012332, 219012334, 219012337, 219013790, 219140613, 219440212-219440216, 219510025-219510028, 21200230035, 21200310038-21200310042, 21200320054-21200320074, 21200330093, 21200340056

Status: Unutilized

Reason: Secured Area (Some are within 2000 ft. of flammable or explosive material)

16 Bldgs.

Milan Army Ammunition Plant

Milan Co: Gibson TN 38358

Landholding Agency: Army

Property Number: 219240447-219240449, 219320182-219320184, 219330176-219330177, 219520034, 219740139, 21200410062-21200410066

Status: Unutilized

Reason: Secured Area

Bldg. Z-183A

Milan Army Ammunition Plant

Milan Co: Gibson TN 38358

Landholding Agency: Army

Property Number: 219240783

Status: Unutilized

Reason: Within 2000 ft. of flammable or explosive material

37 Bldgs.

Fort Campbell

Ft. Campbell Co: Montgomery TN 42223

Landholding Agency: Army

Property Number: 21200220023, 21200230031-21200230034, 21200240065, 21200320046, 21200330094-21200330100

Status: Unutilized

Reason: Extensive deterioration

Texas

20 Bldgs.

Lone Star Army Ammunition Plant

Highway 82 West

Texarkana Co: Bowie TX 75505-9100

Landholding Agency: Army

Property Number: 219012524, 219012529, 219012533, 219012536, 219012539-219012540, 219012542, 219012544-219012545, 219030337-219030345

Status: Unutilized

Reason: Within 2000 ft. of flammable or explosive material; Secured Area

385 Bldgs.

Longhorn Army Ammunition Plant

Karnack Co: Harrison TX 75661-

Location: State highway 43 north

Landholding Agency: Army

Property Number: 219012546, 219012548, 219610555-219610584, 219610635, 219620244-219620287, 219620827-219620837, 21200020054-21200020070, 21200340062-21200340073

Status: Unutilized

Reason: Secured Area (Most are within 2000 ft. of flammable or explosive material)

16 Bldgs., Red River Army Depot

Texarkana Co: Bowie TX 75507-5000

Landholding Agency: Army

Property Number: 219420315-219420327, 219430095-219430097

Status: Unutilized

Reason: Secured Area (Some are extensively deteriorated)

87 Bldgs. Fort Bliss

El Paso Co: El Paso TX 79916

Landholding Agency: Army

Property Number: 219730160-219730186, 219830161-219830197, 21200310044, 21200320079, 21200340057-21200340060

Status: Unutilized

Reason: Extensive deterioration

Starr Ranch, Bldg. 703B

Longhorn Army Ammunition Plant

Karnack Co: Harrison TX 75661

Landholding Agency: Army

Property Number: 219640186, 219640494

Status: Unutilized

Reason: Floodway

6 Bldgs.

Grand Prairie Reserve

Complex

Grand Prairie Co: Tarrant TX 75050

Landholding Agency: Army

Property Number: 21200330101-21200330103, 21200340061

Status: Unutilized

Reason: Secured Area

Utah

Bldg. 4555

Tooele Army Depot

Tooele Co: Tooele UT 84074-5008

Landholding Agency: Army

Property Number: 219012166

Status: Unutilized

Reason: Secured Area

Bldg. S-4301

Tooele Army Depot

Tooele Co: Tooele UT 84074-5008

Landholding Agency: Army

Property Number: 219012751

Status: Underutilized

Reason: Secured Area

3 Bldgs.

Dugway Proving Ground

Dugway Co: Toole UT 84022-

Landholding Agency: Army

Property Number: 219013997, 219130012, 21200120065

Status: Underutilized

Reason: Secured Area

51 Bldgs.

Dugway Proving Ground

Dugway Co: Toole UT 84022-

Property Number: 219330181-219330182, 219330185, 219420328-219420329, 21199920091-21199920101

Status: Unutilized

Reason: Secured Area

Bldgs. 3102, 5145, 8030

Deseret Chemical Depot

Tooele UT 84074

Landholding Agency: Army

Property Number: 219820119-219820121

Status: Unutilized

Reason: Secured Area; Extensive deterioration

Virginia

346 Bldgs.

Radford Army Ammunition Plant

Radford Co: Montgomery VA 24141-

Landholding Agency: Army

Property Number: 219010833, 219010836, 219010842, 219010844, 219010847-219010890, 219010892-219010912, 219011521-219011577, 219011581-219011583,219011585,219011588, 219011591, 219013559-219013570, 219110142-219110143, 219120071, 219140618-219140633, 219220210-219220218, 219230100-219230103, 219240324, 219440219-219440225, 219510031-219510033, 219520037, 219520052, 219530194, 219610607-219610608, 219830223-219830267, 21200020079-21200020081, 21200230038, 21200240071-21200240072

Status: Unutilized

Reason: Within 2000 ft. of flammable or explosive material; Secured Area (Some are extensively deteriorated)

13 Bldgs.

Radford Army Ammunition Plant

Radford Co: Montgomery VA 24141-

Landholding Agency: Army

Property Number: 219010834-219010835, 219010837-219010838, 219010840-219010841, 219010843, 219010845-219010846, 219010891, 219011578-219011580

Status: Unutilized

Reason: Within 2000 ft. of flammable or explosive material; Secured Area; Latrine, detached structure

35 Bldgs.

U.S. Army Combined Arms Support Command

Fort Lee Co: Prince George VA 23801-

Landholding Agency: Army

Property Number: 219240107, 219330210, 219330225-219330228, 219520062, 219610597, 219620497, 219620866-219620876, 219630115, 219740156, 219830208-219830210, 21199940129-21199940131, 21200030062, 21200040040, 21200110064, 21200120067, 21200230037, 21200240070, 21200340074

Status: Unutilized

Reason: Extensive deterioration (Some are in a secured area)

56 Bldgs.

Red Water Field Office

Radford Army Ammunition Plant

Radford VA 24141

Landholding Agency: Army

Property Number: 219430341-219430396

Status: Unutilized

Reason: Within 2000 ft. of flammable or explosive material; Secured Area

84 Bldgs.

Fort A.P. Hill

Bowling Green Co: Caroline VA 22427

Landholding Agency: Army

Property Number: 21200110069, 21200240068-21200240069, 21200310045, 21200310058-21200310060, 21200410068-21200410077

Status: Unutilized

Reason: Secured Area; Extensive deterioration

11 Bldgs.

Fort Belvoir

Ft. Belvoir Co: Fairfax VA 22060-5116

Landholding Agency: Army

Property Number: 21199910050-21199910051, 21199920107, 21199940117-21199940120, 21200030063-21200030064, 21200130075-21200130077

Status: Unutilized

Reason: Extensive deterioration

6 Bldgs., Fort Eustis

Ft. Eustis Co. VA 23604

Landholding Agency: Army

Property Number: 21200210025-21200210026

Status: Unutilized

Reason: Extensive deterioration

Bldg. 448, Fort Myer

Ft. Myer Co: Arlington VA 22211-1199

Landholding Agency: Army

Property Number: 21200010069

Status: Underutilized

Reason: Extensive deterioration

9 Bldgs.

Fort Monroe

Ft. Monroe Co: VA 23651

Landholding Agency: Army

Property Number: 21200220076-21200220079, 21200310047, 21200410067

Status: Excess

Reason: Extensive deterioration

51 Bldgs.

Fort Pickett

Blackstone Co: Nottoway VA 23824

Landholding Agency: Army

Property Number: 21200220087-21200220092, 21200320080-21200320087

Status: Unutilized

Reason: Extensive deterioration

Bldg. 00723, Fort Story

Ft. Story Co: Princess Ann VA 23459

Landholding Agency: Army

Property Number: 21200310046

Status: Unutilized

Reason: Extensive deterioration

Washington

665 Bldgs., Fort Lewis

Ft. Lewis Co: Pierce WA 98433-5000

Landholding Agency: Army

Property Number: 219610006, 219610009-219610010, 219610045-219610046, 219620512-219620517, 219640193, 219720142-219720151, 219810205-219810242, 219820132, 21199910063-21199910078, 21199920125-21199920174, 21199930080-21199930104, 21199940134, 21200120068, 21200140072-21200140073, 21200210075, 21200220097, 21200320091-21200320092, 21200330104-21200330106

Status: Unutilized

Reason: Secured Area; Extensive deterioration

Bldg. HBC07, Fort Lewis

Huckleberry Creek Mountain Training Site

Co: Pierce WA

Landholding Agency: Army

Property Number: 219740166

Status: Unutilized

Reason: Extensive deterioration

Bldg. 415, Fort Worden

Port Angeles Co: Clallam WA 98362

Landholding Agency: Army

Property Number: 21199910062

Status: Excess

Reason: Extensive deterioration

Bldg. U515A, Fort Lewis

Ft. Lewis Co: Pierce WA 98433

Landholding Agency: Army

Property Number: 21199920124

Status: Excess

Reason: gas chamber

Bldgs. 02401, 02402

Vancouver Barracks Cemetery

Vancouver Co: WA 98661

Landholding Agency: Army

Property Number: 21200310048

Status: Unutilized

Reason: Extensive deterioration

4 Bldgs. Renton USARC

00460, 00485, 00480, 00411

Renton Co: WA 980058

Landholding Agency: Army

Property Number: 21200310049

Status: Unutilized

Reason: Extensive deterioration

Wisconsin

5 Bldgs.

Badger Army Ammunition Plant

Baraboo Co: Sauk WI 53913-

Landholding Agency: Army

Property Number: 219011209-219011212, 219011217

Status: Underutilized

Reason: Within 2000 ft. of flammable or explosive material; Friable asbestos; Secured Area

153 Bldgs.

Badger Army Ammunition Plant

Baraboo Co: Sauk WI 53913-

Landholding Agency: Army

Property Number: 219011104, 219011106, 219011108-219011113, 219011115-219011117, 219011119-219011120, 219011122-219011139, 219011141-219011142, 219011144, 219011148-219011208, 219011213-219011216, 219011218-219011234, 219011236, 219011238, 219011240, 219011242, 219011244, 219011247, 219011249, 219011251, 219011256, 19011259, 219011263, 219011265, 219011268, 219011270, 219011275, 219011277, 219011280, 219011282, 219011284, 219011286, 219011290, 219011293, 219011295, 219011297, 219011300, 219011302, 219011304-219011311, 219011317, 219011319-219011321, 219011323

Status: Unutilized

Reason: Within 2000 ft. of flammable or explosive material; Friable asbestos; Secured Area

4 Bldgs.

Badger Army Ammunition Plant

Baraboo Co: Sauk WI

Landholding Agency: Army

Property Number: 219013871-219013873, 219013875

Status: Underutilized

Reason: Secured Area

906 Bldgs.

Badger Army Ammunition Plant

Baraboo Co: Sauk WI

Landholding Agency: Army

Property Number: 219013876-219013878, 219210097-219210099, 219220295-219220311, 219510065, 219510067, 219510069-219510077, 219740184-219740271, 21200020083-21200020155, 21200240074-21200240080

Status: Unutilized

Reason: (Most are in a secured area) (Most are within 2000 ft. of flammable or explosive material) (Some are extensively deteriorated)

7 Bldgs.

Fort McCoy

Ft. McCoy Co: Monroe WI 54656

Landholding Agency: Army

Property Number: 21200410078-21200410081

Status: Unutilized

Reason: Extensive deterioration

Land (by State)

Indiana

Newport Army Ammunition Plant

East of 14th St. & North of S. Blvd.

Newport Co: Vermillion IN 47966-

Landholding Agency: Army

Property Number: 219012360

Status: Unutilized

Reason: Within 2000 ft. of flammable or explosive material; Secured Area

Maryland

Carroll Island, Graces Quarters

Aberdeen Proving Ground

Edgewood Area

Aberdeen City Co: Harford MD 21010-5425

Landholding Agency: Army

Property Number: 219012630, 219012632

Status: Underutilized

Reason: Floodway; Secured Area

Minnesota

Portion of R.R. Spur

Twin Cities Army Ammunition Plant

New Brighton Co: Ramsey MN 55112

Landholding Agency: Army

Property Number: 219620472

Status: Unutilized

Reason: landlocked

New Jersey

Land

Armament Research Development & Eng. Center

Route 15 North

Picatinny Arsenal Co: Morris NJ 07806-

Landholding Agency: Army

Property Number: 219013788

Status: Unutilized

Reason: Secured Area

Spur Line/Right of Way

Armament Rsch., Dev., & Eng. Center

Picatinny Arsenal Co: Morris NJ 07806-5000

Landholding Agency: Army

Property Number: 219530143

Status: Unutilized

Reason: Floodway

2.0 Acres, Berkshire Trail

Armament Rsch., Dev., & Eng. Center

Picatinny Arsenal Co: Morris NJ 07806-5000

Landholding Agency: Army

Property Number: 21199910036

Status: Underutilized

Reason: Within 2000 ft. of flammable or explosive material; Secured Area

Texas

Land—Approx. 50 acres

Lone Star Army Ammunition Plant

Texarkana Co: Bowie TX 75505-9100

Landholding Agency: Army

Property Number: 219420308

Status: Unutilized

Reason: Secured Area

Training Land (3.764 acres

Camp Swift Military Rsv.

Bastrop Co: TX

Landholding Agency: Army

Property Number: 21200130073

Status: Unutilized

Reason: Secured Area

Wisconsin

Land

Badger Army Ammunition Plant

Baraboo Co: Sauk WI 53913-

Location: Vacant land within plant boundaries.

Landholding Agency: Army

Property Number: 219013783

Status: Unutilized

Reason: Secured Area

[FR Doc. 04-3545 Filed 2-19-04; 8:45 am]

BILLING CODE 4210-29-P